DEPARTMENT OF HOUSING AND URBAN DEVELOPMENT

[Docket No. FR-4962-N-01]

Notice of Funding Availability for Fiscal Year (FY) 2004 HOPE VI Main Street Grants

AGENCY: Office of the Assistant Secretary for Public and Indian Housing, HUD.

ACTION: Notice of Funding Availability (NOFA).

Overview Information

A. Federal Agency Name. Department of Housing and Urban Development, Office of Public and Indian Housing.

B. Funding Opportunity Title. HOPE VI Main Street Grants.

C. Announcement Type. Initial announcement.

D. Funding Opportunity Number. The Federal Register number for this NOFA is: FR-4962-N-01. The Office of Management and Budget (OMB) paperwork approval number for this program is 2577-0208.

E. Catalog of Federal Domestic Assistance (CFDA) Number. The CFDA number for this NOFA is 14-866, “Demolition and Revitalization of Severely Distressed Affordable Housing (HOPE VI).”

F. Dates.

1. Application Submission Date. The application submission date is September 2, 2005. See the General Section for application submission and timely receipt requirements.

2. Estimated Grant Award Date. The estimated award date will be September 30, 2005.

G. Electronic Application Submission. Applications for this NOFA must be submitted electronically through http://www.grants.gov. The applicant must register with grants.gov's Central Contractor Registry and must register its Authorized Organization Representative with grants.gov in order to submit an application. Registration may take up to two weeks and must be completed at least 48 hours before the submission date. See “Other Submission Requirements,” Section IV.F. of this NOFA and http://www.grants.gov/GetStarted.

Full Text of Announcement

I. Funding Opportunity Description

A. Available Funds. This NOFA announces the availability of approximately $5 million in Fiscal Year (FY) 2004 funds to produce affordable housing in HUD-defined Main Street rejuvenations.

B. Purpose of the Program. The purpose of the HOPE VI Main Street program is to provide grants to small communities to assist in the rehabilitation and new construction of affordable housing in conjunction with an existing program to revitalize an historic or traditional central business district or “Main Street Area.” The objectives of the program are to:

1. Redevelop Main Street Areas;

2. Preserve historic or traditional architecture or design features in Main Street Areas;

3. Enhance economic development efforts in Main Street Areas; and

4. Provide affordable housing in Main Street Areas.

C. Statutory Authority.

1. The program authority for the HOPE VI Main Street program is Section 24 of the United States Housing Act of 1937 (42 U.S.C. 1437v), as amended by Section 535 of the Quality Housing and Work Responsibility Act of 1998 (Pub. L. 105-276, 112 Stat. 2461, approved October 21, 1998), as amended, and the HOPE VI Program Reauthorization and Small Community Mainstreet Rejuvenation and Housing Act of 2003 (Pub. L. 108-186, 117 Stat. 2685, approved December 16, 2003).

2. The funding authority for the HOPE VI Main Street program is provided by the Consolidated Appropriations Act, 2004 (Pub. L 108-199, approved January 23, 2004), under Division G, Title II, Public and Indian Housing.

3. The HOPE VI Program Reauthorization and Small Community Mainstreet Rejuvenation and Housing Act of 2003 states that, of the amount appropriated for the overall HOPE VI program for any fiscal year, the Secretary shall provide up to five percent for use only for the Main Street initiative. For FY 2004, the Secretary has set aside approximately $5 million for Main Street activities authorized in Section 24(n) of the Act, which provides for grant amounts that shall be used by smaller communities only to provide assistance to carry out eligible affordable housing activities.

D. Definition of Terms.

1. Affordable Housing means rental or homeownership dwelling units that:

a. Are made available for initial occupancy to low-income families, with a subset of units made available to very low- and extremely low-income families; and

b. Are subject to the same rules regarding occupant contribution toward rent or purchase, and terms of rental or purchase, as are public housing units.

2. Applicant Team (“Team”) means the group of entities that will develop the Project. The Team includes the unit of local government that submits the application and, where applicable, the procured developer, the procured property manager, architects, construction contractors, attorneys, partners that comprise the owner entity, and other parties that may be involved in the development and management of the Project.

3. Community and Supportive Services (“CSS”) means services to residents of the Project that may include, but are not limited to:

a. Educational activities that promote learning and serve as the foundation for young people from infancy through high school graduation, helping them to succeed in academia and the professional world. Such activities, which include after school programs, mentoring, and tutoring, must be created with strong partnerships with public and private educational institutions;

b. Adult educational activities, including remedial education, literacy training, tutoring for completion of secondary or post-secondary education, assistance in the attainment of certificates of high school equivalency, and courses in English as a Second Language, as needed;

c. Job readiness and job retention activities, which frequently are key to securing private sector commitments to the provision of jobs;

d. Employment training activities that include results-based job training, preparation, counseling, development, placement, and follow-up assistance after job placement;

e. Programs that provide entry-level, registered apprenticeships in construction, construction-related, maintenance, or other related activities. A registered apprenticeship program is a program which has been registered with either a State Apprenticeship Agency recognized by the Department of Labor's (DOL) Office of Apprenticeship Training, Employer and Labor Services (OATELS) or, if there is no recognized state agency, by OATELS. See also DOL regulations at 29 CFR part 29;

f. Life skills training on topics such as parenting, consumer education, and family budgeting;

g. Creation and operation of credit unions to serve residents, including capitalization and technical assistance to foster new credit unions on-site and to encourage existing community credit unions to expand their coverage to include on-site coverage;

h. Homeownership counseling that is scheduled to begin promptly after grant award so that, to the maximum extent possible, qualified residents will be ready to purchase new homeownership units when they are completed. The Family Self-Sufficiency Program can also be used to promote homeownership, providing assistance with escrow accounts and counseling;

i. Coordinating with health care services providers or providing on-site space for a health clinic, doctors, a wellness center, dentists, etc., that will primarily serve the affordable housing residents. HOPE VI funds may not be used to provide direct medical care to residents;

j. Substance/alcohol abuse treatment and counseling;

k. Activities that address domestic violence treatment and prevention;

l. Child care services that provide sufficient hours of operation to facilitate parental access to education and job opportunities, serve appropriate age groups, and stimulate children to learn;

m. Transportation, as necessary, to enable all family members to participate in available CSS activities and/or to commute to their places of employment;

n. Entrepreneurship training and mentoring, with the goal of establishing resident-owned businesses; and

o. Coordinating with fair housing groups to educate the Main Street Affordable Housing Project's targeted population on its fair housing rights.

4. Firmly Committed means that the amount of Match resources and their dedication to HOPE VI Main Street activities must be explicit, in writing, and signed by a person authorized to make the commitment.

5. General Section means the Notice of HUD's Fiscal Year 2005 Notice of Funding Availability Policy Requirements and General Section to the SuperNOFA for HUD's Discretionary Programs; Notice, Docket No. FR-4950-N-01, published in the Federal Register on March 21, 2005.

6. Homeownership Unit means a housing unit that the Local Government makes available for purchase by low-income families for use as their principal residence;

7. Initial Occupancy Period means the period of time that a rental unit is occupied by the initial low-income resident or the period of time that a homeownership unit is owned by the initial third-party, low-income purchaser.

8. Jurisdiction means the physical area under the supervision of the Local Government.

9. Local Government means any city, county/parish, town, township, parish, village, or other general purpose political subdivision of a state; Guam, the Northern Mariana Islands, the Virgin Islands, American Samoa, the District of Columbia and the Trust Territory of the Pacific Islands, or a general purpose political subdivision thereof; a combination of such political subdivisions that is recognized by the Secretary.

10. Low-Income means a family (resident) with an income equal to or less than 80 percent of median income for the local area, adjusted for family size, in accordance with Section 3(b)(2) of the United States Housing Act of 1937, as amended. HUD may establish a level higher or lower than 80 percent because of prevailing construction costs or unusually high or low family incomes in the area. HUD prescribed income limits are stated at http://www.huduser.org/datasets/il/IL05/Section8_IncomeLimits_2005.doc. Local area is defined as the Primary Metropolitan Statistical Area/Metropolitan Statistical Area (PMSA/MSA) or county/parish, as prescribed by HUD, in which the low-income family resides.

11. Main Street Area means an area specifically designated by the applicant, within the jurisdiction of the applicant that is or was;

a. Traditionally the central business district and center for socio-economic interaction;

b. Characterized by a cohesive core of historic and/or older commercial and mixed-use buildings, often interspersed with civic, religious, and residential buildings, which represent the community's architectural heritage;

c. Typically arranged along a main street with intersecting side streets and public space; and

d. Pedestrian-oriented.

12. Main Street Affordable Housing Project (“Project”) is defined in Section III.C.2.b. of this NOFA, “Program Requirements.”

13. Main Street Rejuvenation Master Plan (“Master Plan”) is a document, or group of documents, that:

a. Serves to guide the rejuvenation of a Main Street Area;

b. Is actively administered and implemented by the applicant, an agency of the local government, or a developer entity recognized by the applicant;

c. Addresses major components such as design, organization, promotion, and economic impact;

d. Has broad community support;

e. Involves investment by the public and private sectors;

f. Has a strong preservation element for historic or traditional architecture;

g. Shows long-term planning and commitment; and

h. Complies with the minimum requirements stated in the Program Requirements in Section III.C.2. of this NOFA.

14. Match is cash or in-kind donations that:

a. Total at least five percent of the requested HOPE VI Main Street grant amount; and

b. Are from government or private-sector sources other than HOPE VI funding.

15. Owner entity is the legal entity that holds title to the real property that contains any affordable housing units developed through this NOFA.

16. Person with disabilities means a person who:

a. Has a condition defined as a disability in Section 223 of the Social Security Act;

b. Has a developmental disability as defined in Section 102 of the Developmental Disabilities Assistance Bill of Rights Act; or

c. Is determined to have a physical, mental, or emotional impairment which:

(1) Is expected to be of long-continued and indefinite duration;

(2) Substantially impedes his or her ability to live independently; and

(3) Is of such a nature that such ability could be improved by more suitable housing conditions.

d. The term “person with disabilities” may include persons who have acquired immunodeficiency syndrome (AIDS) or any conditions arising from the etiologic agent for AIDS. In addition, no individual shall be considered a person with disabilities, for purposes of eligibility for low-income housing, solely on the basis of any drug or alcohol dependence.

e. The definition provided above for persons with disabilities is the proper definition for determining program qualifications. However, the definition of a person with disabilities contained in Section 504 of the Rehabilitation Act of 1973 and its implementing regulations must be used for purposes of reasonable accommodations.

17. Program means the HOPE VI Main Street Program.

18. Recognized Developer is:

a. A procured developer that is a legal entity and that has a contract or “Developer Agreement” with a Local Government to finance, rehabilitate and/or construct housing units, and to provide Community and Supportive Services (if required), for a HOPE VI Main Street grantee; or

b. The Local Government applicant itself.

19. Unit of Local Government: See “Local Government” under this section.

20. Very Low-Income Family means a family (resident) with an income equal to or less than 50 percent of median income for the local area, adjusted for family size, in accordance with Section 3(b)(2) of the United States Housing Act of 1937, as amended. HUD may establish a level higher or lower than 50 percent because of prevailing construction costs or unusually high or low family incomes in the area. HUD prescribed income limits are stated at http://www.huduser.org/datasets/il/IL05/Section8_IncomeLimits_2005.doc. Local area is defined as the PMSA/MSA or nonmetropolitan county/parish, as prescribed by HUD, in which the low-income family resides.

E. Eligible Uses of Grant Funds.

1. Main Street grant funds may be expended on the following activities:

a. New construction and rehabilitation of Main Street-related affordable rental and homeownership housing;

b. Architectural and Engineering activities, surveys, permits, and other planning and implementation costs related to the construction and rehabilitation of Main Street-related affordable housing;

c. Tax credit syndication;

d. Funding of moving expenses for low-income residents displaced as a result of construction or rehabilitation of the Project, in accordance with the Uniform Relocation Assistance and Real Property Acquisition Policies Act of 1970 (URA);

e. Economic development activities that promote the economic self-sufficiency of low-income residents of the Project;

f. Management improvements necessary for the proper development and management of Main Street-related affordable housing, including, but not limited to:

(1) Staff training (including travel) related to affordable housing development and management and public housing property management;

(2) Staff time and materials or contractor services to revise or develop:

(a) Procedure manuals;

(b) Accounting systems, excluding accounting services;

(c) Lease documents;

(d) Resident screening procedures; and

(e) Data processing systems.

g. Leveraging non-HOPE VI funds and in-kind services;

h. Community and Supportive Services. See Funding Restrictions in Section IV.E. of this NOFA.

F. General Section Reference. The subsection entitled “Funding Opportunity Description” in Section I. of the General Section is hereby incorporated by reference.

II. Award Information

A. Available Funds. A total of $5 million is available for funding, which must be obligated on or before September 30, 2005.

B. Number of Awards. This NOFA will result in approximately 10 to 15 awards.

C. Range of Amounts of Each Award. Each applicant may request up to $500,000.

D. Start Date, Period of Performance. The term of the grants that result from this NOFA will start on the date that the grant award document is signed by HUD and will continue for 30 months.

E. Type of Instrument. Grant Agreement.

F. Supplementation. Grants resulting from this NOFA do not supplement other HOPE VI grants.

III. Eligibility Information

A. Eligible Applicants. Eligible applicants include, and are limited to, Local Governments, as defined in Section I.D. of this NOFA and Section 102 of the Housing and Community Development Act of 1974 (42 U.S.C. 5302). The Local Government must:

1. Have a Main Street rejuvenation effort within its jurisdiction;

2. Have a population of 50,000 or less; and

3. Not be served by a public housing agency that administers more than 100 public housing units. For this NOFA, HUD does not consider agencies of the State government to be public housing agencies.

B. Cost Sharing or Match.

1. Match. HUD is required by the Quality Housing and Work Responsibility Act (42 U.S.C. 1437v(c)(1)(A)) to include the requirement for matching funds for all HOPE VI-related grants. Applicants must provide matching funds in the amount of five percent of the requested grant amount from sources other than HUD HOPE VI funds. Match sources may include other federal sources, any state or local government sources, any private contributions, the value of any donated material or building, the value of any lease on a building, the value of the time and services contributed by volunteers, and the value of any other in-kind services provided. The match may include funds already spent on, or funds committed to, the project, provided that they were or shall be used only for carrying out eligible affordable housing activities.

a. Match donations must be firmly committed. “Firmly committed” means that the amount of match resources and their dedication to Main Street-related affordable housing activities must be explicit, in writing, and signed by a person authorized to make the commitment. The commitment must be in place at the time of award. See Section IV.F. of this NOFA for detailed instructions on the procedures related to the submission of third-party documents.

b. The applicant may propose to use the applicant's own funds to meet the match requirement.

c. The applicant's staff time is not an eligible cash or in-kind match.

d. See Section IV.B. of this NOFA for the requirements for documentation of match resources.

C. Other.

1. Thresholds.

a. Main Street Area. The applicant must have within its jurisdiction a Main Street Area. See Section I.D. of this NOFA for the definition of a Main Street Area. If the applicant's jurisdiction does not have a Main Street Area, the application will not be eligible for funding through this NOFA.

b. Master Plan. A Main Street Rejuvenation Master Plan for the Main Street Area must have been in existence for three years prior to the application submission date, and, if one exists, be included in the applicant's Consolidated Plan. See Section I.D. of this NOFA for the definition of a Main Street Rejuvenation Master Plan. If the applicant's Main Street Rejuvenation Master Plan has not been in existence for three years prior to the application submission date, the application will not be eligible for funding through this NOFA.

c. Main Street Affordable Housing Project (“Project”). The targeted affordable housing project must conform to this NOFA's requirements for a Main Street Affordable Housing Project, as defined in Section III.C.2.b. of this NOFA. If the targeted affordable housing project does not conform to this NOFA's requirements of a project, the application will not be eligible for funding through this NOFA.

d. Inclusion of Affordable Housing. The project must have been included in the applicant's master plan on or before the date of publication of this NOFA. If the project was not included in the applicant's master plan on or before the date of publication of this NOFA, the application will not be eligible for funding through this NOFA.

e. Zoning. Zoning for residential housing, or mixed-use zoning that includes residential housing, must be in place on all project sites on or before the application submission date. If zoning for residential housing, or mixed-use zoning that includes residential housing, is not in place on all project sites on or before the application submission date, the application will not be eligible for funding through this NOFA.

f. Site Control. The applicant, or recognized developer entity of the project, must have site control of all properties where affordable housing will be developed on or before the application submission date. If the applicant, or recognized developer entity of the Main Street project, does not have site control of all properties where affordable housing will be developed on or before the application submission date, the application will not be eligible for funding through this NOFA.

g. Program Schedule. The applicant must include a program schedule, developed in accordance with Section VI.B.4.c. of this NOFA, “Reasonable Timeframe,” as part of the application. If such a program schedule is not included in the application, the application will not be eligible for funding through this NOFA.

h. Main Street Area Leverage. The applicant must provide leverage funds and/or in-kind services in excess of 100 percent of the requested grant amount from sources other than HUD HOPE VI funds. Note that this threshold is for leverage that is related to the entire Main Street Area effort. Leverage that is specifically related to the Main Street Affordable Housing Project is measured in Section V.A.4. of this NOFA.

(1) Types of resources that may be counted include:

(a) Private mortgage-secured loans and other debt;

(i) The application must include each loan's expected term of maturity;

(ii) Where there is both a construction loan and a permanent take-out loan, only the value of the permanent loan amount will be counted; and

(iii) If the applicant has obtained a construction loan but not a permanent loan, the value of the construction loan will be counted;

(b) Insured loans;

(c) Housing trust funds;

(d) Net sales proceeds from a homeownership project that exceed the amount of HOPE VI funds used to develop the homeownership unit;

(e) Tax Increment Funding (TIF);

(f) Tax Exempt Bonds;

(g) Low-Income Housing Tax Credits (LIHTC);

(h) Historic Preservation Tax Credits;

(i) Other Public Housing Funds. Capital Fund Program funds may be included provided that public housing exists in the Main Street Area. HOPE VI funds may not be counted as leverage;

(j) Other Federal Funds. Other federal sources may include non-public housing funds provided by HUD;

(k) Land Sale Proceeds. The value of land may be included as a development resource only if this value is a sales proceed. Absent a sales transaction, the value of land may not be counted;

(l) Donations of Land. Donations of land may be counted as leverage only if the donating entity owns the land to be donated;

(m) In-kind services, such as those pertaining to:

(i) Homeownership counseling that is scheduled to begin promptly after grant award so that, to the maximum extent possible, qualified residents will be ready to purchase new homeownership units when they are completed. The Family Self-Sufficiency Program can also be used to promote homeownership, such as by providing assistance with escrow accounts and counseling, including fair housing counseling;

(ii) Coordinating with health care services providers or providing on-site space for a health clinic, doctors, a wellness center, dentists, etc., that will primarily serve the affordable housing residents. HOPE VI funds may not be used to provide direct medical care to residents;

(iii) Substance/alcohol abuse treatment and counseling;

(iv) Transportation, as necessary, to enable all family members to participate in available CSS activities and/or to commute to their places of employment;

(v) Entrepreneurship training and mentoring, with the goal of establishing resident-owned businesses;

(vi) Materials;

(vii) A building;

(viii) A lease on a building;

(ix) Other infrastructure;

(x) Time and services contributed by volunteers;

(xi) Supplies; and

(xii) Other CSS and FSS resources.

(2) Note that wages projected to be paid to residents through jobs, or projected benefits (e.g., health, insurance, and retirement benefits) related to those projected jobs that are provided by CSS Partners, will not be counted as leverage.

(3) Leverage funds may include cash or in-kind services. However, in-kind services of staff time of either the Local Government applicant or the recognized developer entity will not be counted by HUD as leverage.

(4) Leverage funds may include funds already spent, or funds and/or in-kind services firmly committed to the Main Street Area as a whole, not just the targeted affordable housing project related to this NOFA.

(5) Leverage funds/in-kind services may include match funds.

(6) If the applicant provides leverage funds/in-kind services of an amount less than 100 percent of the requested grant amount, the application will not be eligible for funding through this NOFA.

i. One Main Street Area. The applicant may only include one Main Street Area in the application. However, the applicant's project may consist of several scattered sites within that one Main Street Area. If the applicant includes more than one Main Street Area in the application, the application will not be eligible for funding through this NOFA.

j. One application. The applicant may submit only one HOPE VI Main Street application as described in this NOFA. If more than one application is submitted by a single applicant, all applications will be disqualified and no application will be eligible for funding.

k. Appropriateness of the Application. The application demonstrates the appropriateness of the proposal in the context of the local housing market relative to other alternatives.

l. The following sub-sections of Section III of the General Section are hereby incorporated by reference. The applicant must comply with each of the incorporated threshold requirements in order to be eligible for funding, including:

(1) Ineligible Applicants;

(2) Dun and Bradstreet Data Universal Numbering System (DUNS) Number Requirement;

(3) Compliance with Fair Housing and Civil Rights Laws;

(4) Conducting Business In Accordance with Core Values and Ethical Standards;

(5) Delinquent Federal Debts;

(6) Pre-Award Accounting System Surveys;

(7) Name Check Review;

(8) False Statements;

(9) Prohibition Against Lobbying Activities; and

(10) Debarment and Suspension.

2. Program Requirements.

a. Main Street Project Requirements. The applicant must have, within the applicant's jurisdiction, a HUD-recognized Main Street project that includes affordable housing. In order to be recognized by HUD as a Main Street project, the rejuvenation effort must:

(1) Be located within a definable Main Street Area (See Section I.D. of this NOFA);

(2) Have as its purpose the rejuvenation or redevelopment of a historic or traditional commercial area;

(3) Involve investment or other participation by the local government and locally located private entities;

(4) Comply with historic preservation requirements as directed by the cognizant State Historic Preservation Officer (“SHPO”) or, if such historic preservation requirements are not applicable, to preserve significant traditional, architectural, and design features in the project structures or Main Street area; and

(5) Have been described in a Main Street Rejuvenation Master Plan that was acknowledged by the applicant at least three years prior to the application submission date.

b. Main Street Affordable Housing Project. HUD refers to the rejuvenation or development of affordable housing in the Main Street Area as a “Main Street Affordable Housing Project” (“project”). The project must:

(1) Include the construction or substantial rehabilitation of affordable housing units. The number of units that will be developed through this NOFA must equal the number of units stated in form HUD-52861, “HOPE VI Main Street Application Data Sheet,” on the “Unit Mix and Accessibility Summary, Post-Revitalization” page.

(2) Involve the rehabilitation or development of affordable housing;

(3) Be located within the boundaries of the applicant's Main Street Area;

(4) Be located within the jurisdiction of the applicant; and

(5) Have been included as part of a Main Street Rejuvenation Master Plan before the publication date of this NOFA.

c. Master Plan. The Main Street Rejuvenation Master Plan must, at a minimum:

(1) Have been prepared, in whole or in part, by an architect, land planner, or qualified planning professional for the applicant or the developer entity recognized by the applicant;

(2) Describe the proposed Main Street project redevelopment strategies;

(3) Include a map indicating the Main Street Area;

(4) Include a narrative that refers to the map and describes the various planned redevelopment actions;

(5) Include the development of affordable housing; and

(6) Include a list of properties where affordable housing will be rehabilitated or developed. The list of properties must have been included in the master plan on or before the application submission date.

d. Applicable Initial Resident Rental Contribution and Protections. The initial resident of a project unit is subject to the same rules regarding occupant contribution toward rent or purchase, and terms of rental or purchase, as residents in HOPE VI Revitalization development public housing units.

e. Requirements During the Initial Occupancy Period for Rentals.

(1) Initial residents of affordable rental units and initial resident purchasers of affordable homeownership units must be subject to the same rules regarding occupant contribution toward rent or purchase, and terms of rental or purchase, as residents of public housing units in a HOPE VI development.

(2) The project owner entity is not required to develop most mandatory PHA documentation, e.g., the PHA Plans as described in 24 CFR part 903, etc. However, before the project is initially rented, the ownership entity must develop a written statement of its rent determination and resident grievance policies.

(3) Public housing rental and grievance requirements that are contained in 24 CFR 903.7(d) and 24 CFR 903.7(f) may be used as examples for (1) and (2) above.

f. Requirements for Initial Homeownership Sale. The initial sale of an affordable homeownership unit must take place in accordance with Section 24 of the U.S. Housing Act of 1937 (1937 Act), as amended.

g. Use Restrictions. Project units must be maintained as affordable housing for only the period of initial occupancy or the initial resident's ownership. Use restrictions beyond the initial occupancy period may or may not be applied to the unit at the discretion of the applicant.

h. Leveraging Other Resources. This NOFA states that each applicant must obtain non-HOPE VI leverage resources for use in the Main Street Affordable Housing Project (see Sections III.B. and V.A.4.a. of this NOFA) and, separately, for use in the general Main Street Area effort (see also Section III.C.1.h. of this NOFA).

Main Street grant funds may be used to maximize the amount of leverage, i.e., leveraged funds and in-kind services, that the applicant can obtain from sources other than the HOPE VI program. In this capacity, grant funds may be used: (1) To collateralize municipal bonds or private-sector loans for affordable housing uses; and (2) As affordable housing “key money” to attract Main Street Affordable Housing Project or Main Street Area leverage.

(1) Uses of Leverage. Leverage funds and in-kind services may be used for eligible activities listed in Section I.E. of this NOFA and for related activities, including, but not limited to:

(a) For Main Street Affordable Housing Project Leverage:

(i) The acquisition of Main Street Affordable Housing Project-related affordable housing, including associated costs, such as appraisals, surveys, tax settlements, broker fees, and other closing costs;

(ii) Site improvements related to the construction and rehabilitation of Main Street Affordable Housing Project-related affordable housing;

(iii) Clearing of interior space that is necessary to facilitate rehabilitation of affordable housing units within a building;

(iv) Funding of Reserves, e.g., Initial Operating Reserve necessary for financial viability during the initial affordable housing occupancy period, Replacement Reserves, etc.;

(v) Homeownership financial assistance, e.g., write-down of homeownership unit development costs and down payment assistance;

(vi) Other uses that relate directly to the Main Street Affordable Housing Project;

(b) For Main Street Area Leverage:

(i) Rehabilitation of retail space;

(ii) Site improvements, e.g., repaving streets or upgrading streets or sidewalks with brick or cobblestone, adding “boulevard” islands, etc.;

(iii) Legal and administrative fees and costs; and

(iv) Other uses that do not relate directly to the Main Street Affordable Housing Project, but do relate to the general Main Street Area effort.

i. Transfer of Title for Tax Credits. The original owner entity of Main Street Affordable Housing Project properties may transfer title to, or commit to a long-term lease with, an owner entity partnership that includes the original owner, the applicant, an equity partner and, when appropriate, other partners, for the purpose of obtaining Low Income or Historic Tax Credit equity as a leverage resource. See Section IV.E. of this NOFA for limits on sale of real property.

j. Section 106 Historic Preservation Requirements. Grantees may not commit HUD funds until HUD has completed the historic preservation review and consultation process under Section 106 of the National Historic Preservation Act of 1966 (16 U.S.C. 470f) and its implementing regulation, 36 CFR part 800, as applicable, in accordance with environmental review requirements under 24 CFR part 50. See http://www.achp.gov/ for details on the Section 106 review process.

k. Environmental Requirements.

(1) HUD's notification of award to a selected applicant constitutes a preliminary approval by HUD, subject to HUD's completion of an environmental review, of proposed sites in accordance with 24 CFR part 50. Selection for participation (preliminary approval) does not constitute approval of the proposed site(s).

(2) Your application constitutes a certification that you, the applicant, will supply HUD with all available, relevant information necessary for HUD to perform any environmental review required by 24 CFR part 50 for each property; will carry out mitigating measures required by HUD or, if mitigation is not feasible, select alternate eligible property; and will not acquire, rehabilitate, convert, demolish, lease, repair, or construct property, nor commit or expend HOPE VI, other HUD or other non-HUD funds for these program activities with respect to any eligible property, until you receive written HUD approval of the property.

(3) Each proposal will be subject to a HUD environmental review, in accordance with 24 CFR part 50, and the proposal may be modified or the proposed sites rejected as a result of that review.

(4) Phase I and Phase II Environmental Site Assessments. If you are selected for funding, you must have a Phase I environmental site assessment completed in accordance with the ASTM Standards E 1527-00, as amended, for each affected site. The results of the Phase I assessment must be included in the documents that must be provided to HUD for the environmental review. If the Phase I assessment recognizes environmental concerns or if the results are inconclusive, a Phase II environmental site assessment will be required.

(5) Mitigating and remedial measures. You must carry out any mitigating/remedial measures required by HUD. If a remediation plan, where required, is not approved by HUD and a fully-funded contract with a qualified contractor licensed to perform the required type of remediation is not executed, HUD reserves the right to determine that the grant is in default.

(6) Your application constitutes a certification that there are not any environmental or public policy factors such as sewer moratoriums that would preclude development in the requested Main Street Area.

(7) Note that environmental requirements for this NOFA are found in 24 CFR part 50, which requires HUD environmental approval. Please note that 24 CFR part 58, which allows State and local governments to assume Federal environmental responsibilities, is not applicable.

(8) HUD's Environmental Web site is located at http://www.hud.gov/offices/cpd/energyenviron/environment/index.cfm.

l. Building Standards.

(1) Building Codes. All activities that include construction, rehabilitation, lead-based paint removal, and related activities must meet or exceed local building codes. The applicant is encouraged to read the policy statement and Final Report of the HUD Review of Model Building Codes that identifies the variances between the design and construction requirements of the Fair Housing Act and several model building codes. That report can be found on the HUD Web site at http://www.hud.gov/fhe/modelcodes.

(2) Deconstruction. HUD encourages the applicant to design programs that incorporate sustainable construction and demolition practices, such as the dismantling or “deconstruction” of housing units, recycling of demolition debris, and reusing salvage materials in new construction. “A Guide to Deconstruction” can be found at http://www.hud.gov/deconstr.pdf.

(3) Partnership for Advancing Technology in Housing (“PATH”). HUD encourages the applicant to use PATH technologies in the construction and delivery of affordable housing. PATH is a voluntary initiative that seeks to accelerate the creation and widespread use of advanced technologies to radically improve the quality, durability, environmental performance, energy efficiency, and affordability of our nation's housing.

(a) The goal of PATH is to achieve dramatic improvement in the quality of American housing by the year 2010. PATH encourages leaders from the home building, product manufacturing, insurance, and financial industries, and representatives from federal agencies dealing with housing issues to work together to spur housing design and construction innovations. PATH will provide technical support in design and cost analysis of advanced technologies to be incorporated in project construction.

(b) Applicants are encouraged to employ PATH technologies to exceed prevailing national building practices by:

(i) Reducing costs;

(ii) Improving durability;

(iii) Increasing energy efficiency;

(iv) Improving disaster resistance; and

(v) Reducing environmental impact.

(c) More information, including a list of technologies, the latest PATH Newsletter, results from field demonstrations, and descriptions of PATH projects can be found at www.pathnet.org.

(4) Energy Efficiency.

(a) New construction must comply with the latest HUD-adopted Model Energy Code issued by the Council of American Building Officials.

(b) In HOPE VI new construction, HUD encourages the applicant to set higher energy and water efficiency standards than the Model Energy Code contains. Such higher standards can achieve utility savings of 30 to 50 percent with minimal extra cost.

(c) The applicant is encouraged to negotiate with its local utility company to obtain lower utility rates. Utility rates and tax laws vary widely throughout the country. In some areas, local governments are exempt or partially exempt from utility rate taxes. Some local governments have paid unnecessarily high utility rates because they were billed using an incorrect rate classification.

(d) Local utility companies may be able to provide grant funds to assist in energy efficiency activities. States may also have programs that will assist in energy efficient building techniques.

(e) The applicant must use new technologies that will conserve energy and decrease operating costs where cost effective. Examples of such technologies include:

(i) Geothermal heating and cooling;

(ii) Placement of buildings and size of eaves that take advantage of the directions of the sun throughout the year;

(iii) Photovoltaics (technologies that convert light into electrical power);

(iv) Extra insulation;

(v) Smart windows; and

(vi) Energy Star appliances.

(5) Universal Design. HUD encourages the applicant to incorporate the principles of universal design in the construction or rehabilitation of housing, retail establishments, and community facilities, and when communicating with community residents at public meetings or events. Universal Design is the design of products and environments to be usable by all people, to the greatest extent possible, without the need for adaptation or specialized design. The intent of Universal Design is to simplify life for everyone by making products, communications, and the built environment more usable by as many people as possible at little or no extra cost. Universal Design benefits people of all ages and abilities. Examples include designing wider doorways, installing levers instead of doorknobs, and putting bathtub/shower grab bars in all units. Computers and telephones can also be set up in ways that enable as many residents as possible to use them. The Department has a publication that contains a number of ideas about how the principles of Universal Design can benefit persons with disabilities. To order a copy of Strategies for Providing Accessibility and Visitability for HOPE VI and Mixed Finance Homeownership, go to the publications and resource page of the HOPE VI Web site at http://www.huduser.org/publications/pubasst/strategies.html.

(6) Energy Star. The Department of Housing and Urban Development has adopted a wide-ranging energy action plan for improving energy efficiency in all program areas. As a first step in implementing the energy plan, HUD, the Environmental Protection Agency (EPA) and the Department of Energy (DoE) have signed a partnership to promote energy efficiency in HUD's affordable housing efforts and programs. The purpose of the Energy Star partnership is to promote energy efficiency of the affordable housing stock, but also to help protect the environment. Applicants constructing, rehabilitating, or maintaining housing or community facilities are encouraged to promote energy efficiency in design and operations. They are urged especially to purchase and use Energy Star-labeled products. Applicants providing housing assistance or counseling services are encouraged to promote Energy Star building to homebuyers and renters. Program activities can include developing Energy Star promotional and information materials, outreach to low- and moderate-income renters and buyers on the benefits and savings when using Energy Star products and appliances, and promoting the designation of community buildings and homes as Energy Star compliant. For further information about Energy Star, see http://www.energystar.gov or call 1-888-STAR-YES (1-888-782-7937) or for the hearing-impaired, 1-888-588-9920 TTY.

(7) All buildings must be in compliance with design and construction requirements of the Civil Rights Act of 1964, Section 504 of the Rehabilitation Act of 1973, and Section 109 of the Housing and Community Development Act of 1974.

m. Lead-Based Paint. The applicant must comply with lead-based paint evaluation and reduction requirements as provided for under the Lead-Based Paint Poisoning Prevention Act (42 U.S.C. 4821, et seq.). The applicant must also comply with regulations at 24 CFR part 35, as they may be amended or revised from time to time. Unless otherwise provided, the applicant will be responsible for lead-based paint evaluation and reduction activities for housing constructed prior to 1978. The National Lead Information Hotline is 1-800-424-5323.

n. Labor Standards.

(1) If other federal programs are used in connection with the applicant's HOPE VI Main Street activities, Davis-Bacon requirements apply to the extent required by the other federal programs.

(2) If an applicant provides Main Street grant funds to a PHA to construct, rehabilitate, or otherwise assist affordable housing under this NOFA, Davis-Bacon wage rates will apply to laborers and mechanics (other than volunteers under 24 CFR part 70) employed in the development of such units, and HUD-determined wage rates will apply to laborers and mechanics (other than volunteers) employed in the operation of such units.

o. Relocation Requirements. The Uniform Relocation Assistance and Real Property Acquisition Policies Act of 1979 (42 U.S.C. 4601-4655) and implementing regulations at 49 CFR part 24 apply to anyone who is displaced as a result of acquisition, rehabilitation, or demolition due to a HUD-assisted activity.

p. Fair Housing and Equal Opportunity Requirements.

Fair Housing and Equal Opportunity requirements stated in Section III.c.2.(c) of the General Section apply as referenced in this NOFA. In addition, the following requirement applies:

(1) Accessibility Requirements.

(a) All “multifamily” HOPE VI developments, defined as projects with more than five units, are subject to the accessibility requirements contained in several federal laws, as implemented in 24 CFR part 8. PIH Notice 2003-31, available at http://www.hud.gov/offices/pih/publications/notices/, and subsequent updates, provides an overview of all pertinent laws and implementing regulations pertaining to HOPE VI.

(b) Generally, for substantial rehabilitation of projects with more than 15 housing units, or new construction of a multifamily project, at least 5 percent of the units, or one unit, whichever is greater, must be accessible to persons with mobility impairments. An additional 2 percent, but not less than one unit, must be made accessible for persons with hearing or vision impairment. See, in particular, 24 CFR parts 8.20 through 8.32.

(c) In addition, under the Fair Housing Act, all new construction of covered multifamily buildings must contain certain features of accessible and adaptable design. The relevant accessibility requirements are provided in HUD's FHEO Web site at http://www.hud.gov/groups/fairhousing.cfm. Units covered are all those in elevator buildings with four or more units and all ground floor units in buildings without elevators. See also “program accessibility” at http://www.hud.gov/offices/fheo/disabilities/sect504faq.cfm#anchor263905. This section is in addition to, and does not replace, other non-HUD accessibility requirements that the applicant local government may be subject to.

(2) Compliance with Fair Housing and Civil Rights Laws.

(a) Applicants must comply with all applicable fair housing and civil rights requirements in 24 CFR 5.105(a).

(b) If you, the applicant:

(i) Have been charged with an ongoing systemic violation of the Fair Housing Act; or

(ii) Are a defendant in a Fair Housing Act lawsuit filed by the Department of Justice alleging an ongoing pattern or practice of discrimination; or

(iii) Have received a letter of noncompliance findings, identifying ongoing systemic noncompliance, under Title VI of the Civil Rights Act of 1964, Section 504 of the Rehabilitation Act of 1973, or Section 109 of the Housing and Community Development Act of 1974; and

(iv) The charge, lawsuit or letter of findings referenced in subpart (a), (b), or (c) above has not been resolved to HUD's satisfaction before the application deadline, then you are ineligible and HUD will not rate and rank your application. HUD will determine if actions to resolve the charge, lawsuit, or letter of findings taken prior to the application deadline are sufficient to resolve the matter.

Examples of actions that would normally be considered sufficient to resolve the matter include, but are not limited to:

(A) A voluntary compliance agreement signed by all parties in response to a letter of findings;

(B) A HUD-approved conciliation agreement signed by all parties;

(C) A consent order or consent decree; or

(D) An issuance of a judicial ruling or a HUD Administrative Law Judge's decision.

3. General Section References. The following subsections of Section III of the General Section are hereby incorporated by reference:

a. Additional Nondiscrimination and Other Requirements;

(1) Civil Rights Laws, including the Americans with Disabilities Act of 1990 (42 U.S.C. 1201 et seq.);

(2) The Age Discrimination Act of 1974 (42 U.S.C. 6101 et seq.); and

(3) Title IX of the Education Amendments Act of 1972 (20 U.S.C. 1681 et seq.)

b. Affirmatively Furthering Fair Housing;

c. Economic Opportunities for Low- and Very Low-Income Persons (Section 3);

d. Ensuring the Participation of Small Businesses, Small Disadvantaged Businesses, and Women-Owned Businesses;

e. Relocation;

f. Executive Order 13166, Improving Access to Services for Persons With Limited English Proficiency (LEP);

g. Executive Order 13279, Equal Protection of the Laws for Faith-Based and Community Organizations;

h. Accessible Technology;

i. Procurement of Recovered Materials;

j. Participation in HUD-Sponsored Program Evaluation;

k. Executive Order 13202, Preservation of Open Competition and Government Neutrality Towards Government Contractors' Labor Relations on Federal and Federally Funded Construction Projects;

l. Salary Limitation for Consultants;

m. OMB Circulars and Government-wide Regulations Applicable to Financial Assistance Programs;

n. Drug-Free Workplace; and

o. Safeguarding Resident/Client Files.

IV. Application and Submission Information

A. Addresses To Request Application Package

This section describes how you may obtain application forms, additional information about the General Section of this NOFA, and technical assistance.

1. Copies of this published NOFA and related application forms may be downloaded from the grants.gov Web site at http://www.grants.gov/FIND. If you have difficulty accessing the information, you may receive customer support from grants.gov by calling the help line at (800) 518-GRANTS or by sending an email to support@grants.gov. The operators will assist you in accessing the information. If you do not have Internet access and need to obtain a copy of this NOFA, you can contact HUD's NOFA Information Center toll-free at (800) HUD-8929. Persons with hearing or speech impairments may call toll-free at (800) HUD-22091.

2. Application Kits. There are no application kits for HUD programs. All the information you need to apply will be in the NOFA and available on http://www.grants.gov.

3. The published Federal Register document is the official document that HUD uses to evaluate applications. Therefore, if there is a discrepancy between any materials published by HUD in its Federal Register publications and other information provided in paper copy, electronic copy, or at http://www.grants.gov, the Federal Register publication prevails. Please be sure to review the application submission against the requirements in the Federal Register file of this NOFA.

B. Content and Form of Application Submission

1. Number of Applications Permitted. Each applicant may submit only one application.

2. Joint Applications. Joint applications are not permitted. However, the applicant may enter into subgrant agreements with procured developers, other partners, nonprofit organizations, state governments, or other local governments to perform the activities proposed under the application.

3. General Format and Length of Application.

a. Applicant Name. The applicant's name must include the name of the Local Government that is applying and the state in which the Local Government is located.

b. Electronic Format.

(1) Narrative. Narrative sections of the application are as listed in Section IV.B.3.c. of this NOFA. Each section should be contained in a separate file. Each file should contain one title page.

(a) Narrative Title Pages. HUD will use title pages as tabs when it downloads and prints the application. Provided the information on the title page is limited to the list in Section (i) below, the title pages will not be counted when HUD determines the length of each section or the overall length of the narrative.

(i) Each title page should contain only:

(A) The name of the section, as described in Section IV.B.3.c. of this NOFA, e.g., “Section D: Rating Factor 1, Capacity, Narrative Response';

(B) The name of the applicant; and

(C) The name of the file that contains the narrative section.

(b) Narrative File Names and Types.

(i) No narrative section file in the application may contain more than five files. ZIP file folders may be used to combine several narrative files. Each file and ZIP file folder must be entered into the grants.gov “Attachment Form” in the “Grant Application Package” for submission.

(ii) Each file, or file within the ZIP file folder, must be formatted so it can be read by MS Word 2000 (.doc) or Adobe Acrobat as a searchable PDF file.

(iii) The name of each file, or file within the ZIP file folder, must include the information below, in the order stated:

(A) Short version of applicant's name, e.g., town, city, county/parish, etc., and state; and

(B) The word “Narrative” and the narrative section letter (A through J), as listed in Section IV.B.3.c. of this NOFA;

(C) An example of a narrative section file name is, “Atlanta GA Narrative A.”

(2) Attachments. Attachments are as listed in Section IV.B.3.c. of this NOFA. Each attachment should be contained in a separate file and section of the application. Each attachment that is not a HUD form should contain one title page.

(a) Attachment Title Pages. HUD will use title pages as tabs if it prints the application. Provided the information on the title page is limited to the list in Section (i) below, the title pages will not be counted when HUD determines the length of each attachment, or the overall length of the attachments. HUD forms do not require title pages.

(i) Each title page should contain only:

(A) The name of the attachment, as described in Section IV.B.3.c. of this NOFA, e.g., “Section M: Main Street Area Drawing”;

(B) The name of the applicant; and

(C) The name of the file that contains the attachment.

(b) Attachment file names and types.

(i) In the grants.gov application package, some forms are completed online and some are downloaded and completed offline. A maximum of ten attachments/ZIP file folders should be used to contain and submit the various forms and other attachments that are completed offline. Each file and ZIP file folder must be entered into the grants.gov “Attachment Form” in the “Grant Application Package” for submission.

(ii) Each file, and file within a ZIP file folder, must be formatted so it can be read by MS Word (.doc), MS Excel (.xls) or Adobe Acrobat (.pdf), preferably searchable.

(A) Third-party documents, e.g., leverage commitment letters, pictures, etc., should be submitted in Adobe Acrobat (PDF) format.

(iii) Each file name must include the information below, in the order stated:

(A) Short version of applicant's name, e.g., town, city, county/parish, etc., and state; and

(B) The word “Attachment” and the Attachment section letter (K through U), as listed in Section IV.B.3.c. of this NOFA;

(C) An example of an attachment file name is, “Atlanta GA Attachment L”

(3) Maximum Length of Application.

(i) Page Definition and Format.

(A) For the narrative, a “page” contains a maximum of 23 double-spaced lines. The length of each line must be a maximum of 6½ inches. This is the equivalent of formatting to be printed on 8½″ x 11″ paper, with one inch top, bottom, left and right margins. The font must be 12-point Times New Roman. Each page must be numbered. The page numbers may be within the bottom one inch of the page, beyond the 23 lines, e.g., in the footer area.

(B) For attachments, text pages should be formatted as defined as in (A) above. Third-party documents converted into PDF format must not be shrunk to fit more than one original page on each application page. Pages of HUD forms and certification formats furnished by HUD must remain as numbered by HUD.

(ii) The maximum total length of all narrative sections, including the Executive Summary and the Rating Factor responses, is 15 pages.

(iii) The maximum length of attachments is as follows:

(A) HUD forms will not be counted toward the attachment page total;

(B) For the Program Schedule, a maximum of one page;

(C) For the Map of the Main Street Area, one page. The map must be scalable and may be shrunk to fit one page from a standard size blueprint. The map must be legible when viewed in Adobe Acrobat (.pdf), which has the ability to zoom to over 1600%;

(D) Main Street Rejuvenation Master Plan (Master Plan), a maximum of 20 pages. Master Plan documents should be scanned and converted into one or more PDF files. In order to meet the size limitation, the applicant may submit only the portions of the Master Plan that pertain to subjects that are listed in Section III of this NOFA, under “Thresholds” and “Program Requirements,” and Section V of this NOFA. If those portions of the Master Plan exceed 20 pages, the applicant may summarize information that is included in those portions of the Master Plan. By applying for this NOFA, the applicant is certifying that submitted summaries of the Master Plan accurately represent the original Master Plan;

(E) Text submitted at the request of HUD to correct technical deficiencies will not be counted in the page limit.

c. List of Mandatory Application Sections and Related Documents.

(1) Summary Information:

(a) Section A: Application for Federal Assistance, form SF-424;

(b) Section B: Application Table of Contents;

(c) Section C: Executive Summary;

(2) Rating Factor Responses:

(a) Section D: Rating Factor 1, Capacity, Narrative Response;

(b) Section E: Rating Factor 2, Need for Affordable Housing, Narrative Response;

(c) Section F: Rating Factor 3, Appropriateness of Main Street Master Plan;

(d) Section G: Rating Factor 4, Appropriateness of the Main Street Affordable Housing Project;

(e) Section H: Rating Factor 5, Program Administration and Fiscal Management;

(f) Section I: Rating Factor 6, Incentive Criteria on Regulatory Barrier Removal; and

(g) Section J: Rating Factor 7, RC/EZ/EC-IIs.

(3) Attachments:

(a) Section K: HOPE VI Main Street Application Data Sheet, form HUD-52861;

(b) Section L: Program Schedule;

(c) Section M: Map of Main Street Area;

(d) Section N: Main Street Rejuvenation Master Plan;

(e) Section O: HOPE VI Budget, form HUD-52825A;

(f) Section P: 5-Year Cash Flow Proforma;

(g) Section Q: America's Affordable Communities Initiative, form HUD-27300, and related documentation;

(h) Section R: Logic Model, form HUD-96010;

(i) Section S: Race and Ethnic Data Reporting, form HUD-27061;

(j) Section T: Applicant/Recipient Disclosure/Update Report, form HUD-2880, if applicable;

(k) Section U: Certification of Consistency with the RC/EZ/EC-IIs Strategic Plan, form HUD-2990, if applicable; and

(l) Section V: Disclosure of Lobbying Activities, Standard Form LLL, if applicable.

4. Documentation Information.

a. Executive Summary.

(1) Provide an Executive Summary, not to exceed two pages. Describe your affordable housing plan. State whether you have procured a developer or whether you will act as your own developer. Briefly describe:

(a) The type of housing, e.g., walk-up above retail space, detached house, etc.;

(b) The number of units and buildings;

(c) The specific plans for the Main Street Area that surrounds the Main Street Affordable Housing Project. Include income mix, basic features (such as restoration of streets), and a general description of mixed-use and non-housing Main Street rejuvenation components.

(d) The number of homeownership units in your proposal, if any;

(e) The amount of HOPE VI funds you are requesting. See Section IV.E. of this NOFA for funding limits; and

(f) A list of major non-HOPE VI funding sources for the Main Street Affordable Housing Project, if any.

b. HOPE VI Main Street Application Data Sheet, form HUD-52861, in MS Excel format (.xls).

(1) This form consists of several Excel worksheets. Instructions for filling in the data worksheets are located on the left-hand worksheet, with the tab name, “Instructions.” The worksheets should be filled out from the left-most tab toward the right. In this way, the information that the applicant provides will automatically be inserted to the right into other worksheets as needed.

(2) List of Match and Leverage Resources. To meet the leverage resources threshold stated in Section III.C.1 of this NOFA, the applicant must provide a leverage amount equal to or greater than the applicant's requested grant amount. Allowable resources may be cash contributions or contributions of in-kind services. For each of the applicant's leverage resources, the applicant's list of leverage resources must include:

(a) The name of the entity providing the resource;

(b) The name of a contact for the entity providing the resource that is familiar with the contribution toward this application;

(c) The telephone number of a contact for the resource who is familiar with the contribution toward this application;

(d) The leverage amount;

(e) Whether the leverage amount is cash or in-kind services; and

(f) The period in which the leverage resource was expended or will be received, e.g., expended during 2003, or, for a future leverage resource, the period in which it will be furnished, e.g., over the next two years.

c. Program Schedule. The application must include a program schedule for the applicant's Project.

(1) The schedule must include, at a minimum:

(a) Grant Agreement Execution Date. Assume that the Grant Agreement Execution Date will be within 90 days of the grant award notification date;

(b) Date of closing of financing of the first phase, in months after the grant award date;

(c) Date of the start of construction of the first housing unit, in months after the grant award date; and

(d) Date of the completion of construction of the last housing unit, in months after the grant award date.

(2) The Program Schedule must reflect the Reasonable Time-Frame and Development Proposal time requirements stated in Section VI.B.1. of this NOFA. The Program Schedule must also state that grant activities will be completed within the 30-month term of the grant.

d. Map of Main Street Area. The drawing must show the boundaries of a Main Street Area and denote each housing site that is included in the applicant's project. The boundaries may include streets, highways, railroad tracks, etc., and natural boundaries such as streams, hills, and ravines, etc.

e. Main Street Rejuvenation Master Plan. The applicant's Main Street Rejuvenation Master Plan must address, at a minimum, the eight subjects listed in “Main Street Rejuvenation Master Plan,” in Section I.D.13. of this NOFA. The Master Plan must be as it existed on or before the application submission date of this NOFA. It is not necessary to include a market analysis for affordable housing that is needed in the Main Street Area or applications to the Historic Registry or list of Historic Districts. The applicant may submit only the portions of the Master Plan that pertain to subjects that are listed in Section III of this NOFA, under “Thresholds,” “Program Requirements,” and Section V of this NOFA. If those portions of the Master Plan exceed 20 pages, the applicant may summarize information that is included in those portions of the Master Plan. By applying for this NOFA, the applicant is certifying that submitted summaries of the Master Plan accurately represent the original Master Plan. See Section IV.B.5. of this NOFA for certifications that the applicant is making when the applicant applies for funds from this NOFA.

f. Cash Flow Proforma. The applicant must include a five-year estimate of project income, expenses, and cash flow (“proforma”) that shows that the project will be financially viable over the long term. In the proforma, the applicant should assume that the initial occupancy period is a minimum of two years. Note that initial funding of reserves with grant funds is NOT an allowable use of funds from this NOFA. Reserves may be funded through leverage resources. Viability must be shown for the entire project, i.e., all buildings that include affordable housing units that are partially or wholly funded with HOPE VI funds. The applicant may include one proforma for the entire project, or several proformas, broken out for the various portions of the project, as fits the circumstances best. For example, separate proformas may include viability documentation for:

(1) All buildings together;

(2) Separately for each building in the project; or

(3) Separately for each owner entity in the project.

g. HOPE VI Budget. Enter the amount you are requesting through this NOFA. In “Part I: Summary,” it is not necessary to fill in the columns entitled, “Previous Authorized Amounts of Funds in LOCCS,” “Changes Requested in this Revision,” and “HUD-Approved Total Authorized Amount of Funds in LOCCS.” In “Part II: Supporting Pages,” it is necessary only to fill in columns 2 and 3.

h. Logic Model. It is not necessary to fill in columns 6, 7, 8 and 9. This information will be collected at the end of the grant term. See Section VI.C.3. of this NOFA.

i. Appropriateness of Application. Section 24(e)(1) of the 1937 Act requires that the application demonstrate the appropriateness of the proposal in the context of the local housing market relative to other alternatives. An example of an alternative proposal would be proposing a range of resident incomes, housing types (rental, homeownership, market-rate, townhouse, detached house, etc.), or costs which cannot be supported by the existing neighborhood demographics. Briefly, contrast your proposal and an alternative, and include the discussion in the executive summary.

5. Certifications: By manually or electronically signing the SF-424, the applicant certifies to the following:

a. The Main Street Rejuvenation Master Plan that is included as part of this application existed for three years prior to the application submission date, and is mentioned in the applicant's Consolidated Plan, if one exists;

b. Prior to the publication date of this NOFA, the Main Street Affordable Housing Project was, and continues to be, included in the Main Street Rejuvenation Master Plan;

c. Submitted summaries of the Master Plan accurately represent the original Master Plan;

d. The applicant or its developer entity recognized by the applicant has site control of all properties where affordable housing will be developed;

e. All project sites have zoning that allows for residential development;

f. All Match resources included in the application are “firmly committed.” See the definition of “firmly committed” in Section I.D. of this NOFA;

g. All leverage resources included in the application are “firmly committed.” See the definition of “firmly committed” in Section I.D. of this NOFA;

h. Historic preservation requirements in Section 106 of the National Historic Preservation Act of 1966 (NHPA) will be fulfilled, where applicable.

i. Environmental requirements stated in the NOFA will be fulfilled;

j. Building standards stated in the NOFA will be fulfilled;

k. Relocation requirements under the Uniform Relocation Assistance and Real Property Acquisition Policies Act of 1970 (URA) will be fulfilled;

l. Fair Housing requirements will be followed and fulfilled; and

m. The “Certification of Consistency with RC/EZ/EC Strategic Plan” (form HUD-2990), if included in the application, applies.

6. Rating Factor Format. The narrative portion of the application is the executive summary and the applicant's response to the rating factors. To ensure proper credit for information applicable to each rating factor, the applicant should include application Section references, as listed in Section IV.B.3.c. of this NOFA, with key words or phrases searchable to supporting documentation and language, as appropriate for rating factor responses. The applicant's rating factor responses should be as descriptive as possible, ensuring that every requested item is addressed. The applicant should make sure to include all information requested in the instructions of this NOFA. Although information from all parts of the application will be taken into account in rating the various factors, if supporting information cannot be found by the reviewer, it cannot be used to support a factor's rating.

7. Rating Factor Documentation.

a. References to the Main Street Rejuvenation Master Plan. (1) The purpose of referencing the Main Street Rejuvenation Master Plan is to decrease the amount of rating factor narrative that the applicant finds necessary to achieve its maximum rating. It is NOT necessary to repeat in the rating factor narratives the information that the applicant included in its Master Plan.

(2) Each reference to the Master Plan should be specific, including the page number of the Master Plan where the information can be found and a reference to identify its location on the page. More than one specific reference to the Master Plan may be included for any one subject or rating factor narrative.

b. Team Experience and Key Personnel Knowledge. Documentation that demonstrates knowledge and experience may include, but is not limited to:

(1) A list and short description of affordable housing projects that the members of the applicant's team have completed;

(2) A list and short description of contracts or grants completed by the members of the applicant's team for similar housing development or services;

(3) Third-party evaluation reports;

(4) Résumés of key personnel; and

(5) Other documentation showing knowledge and experience of affordable housing development or construction.

c. Need for Affordable Housing. Documentation of need for affordable housing is based on a comparison of HUD's Fair Market Rent (FMR) for the applicant's Primary Metropolitan Statistical Area/Metropolitan Statistical Area (“PMSA/MSA”) or nonmetropolitan county/parish and the maximum amount of rent that a low-income family living in that PMSA/MSA or nonmetropolitan county/parish can afford to pay.

(1) PMSA/MSAs and nonmetropolitan counties are as listed in HUD's document titled “FY 2004 State List of Counties (and New England Towns) Identified by Metropolitan and Nonmetropolitan Status' at http://www.huduser.org/datasets/il/IL04/Definitions04.doc.

(2) The FMRs are listed at http://www.huduser.org/intercept.asp?loc=/Datasets/FMR/FMR2005F/Final_FY2005_SCHEDULEB1.pdf

(3) The maximum, affordable low-income rent is based on HUD's Income Limits, as listed at http://www.huduser.org/datasets/il/IL04/Section8_IncomeLimits_2004.doc for low-income families. The maximum, affordable low-income rent is equal to the Median Family Income for low-income families, divided by 12, divided further by 0.3 (30 percent).

(4) In performing the comparison, the applicant must use the 4-person family size and the 3-bedroom unit size. The application must include the income limit and maximum, affordable low-income rent for a 4-person family, and the Fair Market Rent for a 3-bedroom unit.

d. Program Administration and Fiscal Management. Documentation that demonstrates program administration and fiscal management MUST include:

(1) A description of the procurement system structure that the applicant has in place, including internal controls;

(2) A description of the fiscal management structure that the applicant has in place, including fiscal controls and internal controls;

(3) A summary of the results of the last available annual external, independent audit, including findings, if any;

(4) A list of any findings issued or material weaknesses found by HUD or other federal or state agencies. A description of how the applicant addressed the findings and/or weaknesses. If no findings or material weaknesses were exposed or existed on or before the publication date of this NOFA, include a statement to that effect in the narrative; and

(5) A description of the applicant's management control structure, including management roles and responsibilities and evidence that the applicant's management is results-oriented, e.g., existing production, rental, and maintenance goals.

e. Incentive Criteria on Regulatory Barrier Removal.

(1) The applicant must include the completed form HUD-27300 in the application, along with background documentation where required by the form.

f. RC/EZ/EC-IIs.

(1) To receive the two bonus points for performing the NOFA activities in a RC/EZ/EC-II area, the applicant must include the “Certification of Consistency with RC/EZ/EC Strategic Plan” (form HUD-2990) in the application. The form HUD-2990 needs to be filled out, but does not need to be signed. See Section IV.B.5. of this NOFA, “Certifications.”

C. Submission Dates and Times

1. Application submission date. The application submission date is September 6, 2005.

2. No Facsimiles or Videos. HUD will not accept for review, evaluation, or funding, any entire application sent by facsimile (fax). However, third-party documents or other materials sent by facsimile in compliance with the instructions under Section IV. F., “Other Submission Requirements,” and received by the application submission date will be accepted. Facsimile corrections to technical deficiencies will be accepted. Also, videos submitted as part of an application will not be viewed.

D. Intergovernmental Review

1. Executive Order 12372, Intergovernmental Review of Federal Programs. Executive Order 12372 was issued to foster intergovernmental partnership and strengthen federalism by relying on state and local processes for the coordination and review of federal financial assistance and direct federal development. HUD implementing regulations are published in 24 CFR part 52. The executive order allows each state to designate an entity to perform a state review function. The official listing of State Points of Contact (SPOCs) for this review process can be found at http://www.whitehouse.gov/omb/grants/spoc.html. States not listed on the Web site have chosen not to participate in the intergovernmental review process and, therefore, do not have a SPOC. If the applicant's state has a SPOC, the applicant should contact it to see if it is interested in reviewing the application prior to submission to HUD. The applicant should allow ample time for this review process when developing and submitting the applications. If the applicant's state does not have a SPOC, the applicant may send applications directly to HUD.

E. Funding Restrictions

1. Grant funds shall be used only to provide assistance to carry out eligible affordable housing activities, as stated in Section I.E. of this NOFA.

2. Non-allowable Costs and Activities. Although leverage resources may be used to fund the following activities or expenses, grant funds from this NOFA CANNOT be used for:

a. Total demolition of a building (including where a building foundation is retained);

b. Sale or lease of the Main Street Affordable Housing Project site (excluding lease or transfer of title for the purposes of obtaining tax credits, provided that the recipient owner entity of the title or lease includes the applicant);

c. Funding of reserves;

d. Payment of administrative costs of the applicant;

e. Payment of legal fees;

f. Development of public housing replacement units (defined as units that replace disposed of or demolished public housing) or use as Housing Choice Vouchers;

g. Transitional security activities;

h. Main Street technical assistance consultants or contracts; and

i. Costs incurred prior to grant award, including the cost of application preparation.

3. Cost Controls.

a. The total amount of HOPE VI funds expended shall not exceed the Total Development Cost (“TDC”), as published by HUD in NOTICE PIH 2003-8 (HA), “Public Housing Development Cost Limits,” for the number of affordable housing units that will be developed through this NOFA. The TDC limits can be found at http://www.hudclips.org/sub_nonhud/cgi/nph-brs.cgi?d=PIHN&s1=2003-8 &op1=AND&l=100&SECT1=TXT_ HITS&SECT5=HEHB&u=./hudclips. cgi& p=1&r=2&f=G.

b. Cost Control Safe Harbors apply. Safe Harbors may be found at http://www.hud.gov/utilities/intercept.cfm? /offices/pih/programs/ph/hope6/ grants/admin/safe_harbor.pdf.

4. Community and Supportive Services (“CSS”). Furnishing CSS to residents is voluntary, except for homeownership counseling when the application includes development of homeownership units. If the applicant chooses to furnish CSS, expenditures are limited to 15 percent of the grant amount.

5. Statutory time limit for award, obligation, and expenditure.

a. The estimated award date will be September 30, 2005.

b. Funds available through this NOFA must be obligated on or before September 30, 2005.

c. In accordance with 31 U.S.C. 1552 (Pub. L. 97-258, Sept. 13, 1982, 96 Stat. 935; Pub. L. 101-510, div. A, title XIV, Sec. 1405(a)(1), Nov. 5, 1990, 104 Stat. 1676.), all HOPE VI funds that were appropriated in FY 2004 must be expended by September 30, 2010. Any funds that are not expended by that date will be cancelled and recaptured by the Treasury, and thereafter will not be available for obligation or expenditure for any purpose.

6. Withdrawal of Funding. If a grantee under this NOFA does not proceed within a reasonable time frame, HUD shall withdraw any grant amounts that have not been obligated. HUD shall redistribute any withdrawn amounts to one or more other applicants eligible for assistance.

7. Transfer of Funds. HUD has the discretion to transfer funds available through this NOFA to any other HOPE VI program.

8. Limitation on Eligible Expenditures. Expenditures on services, equipment, and physical improvements must directly relate to project activities allowed under this NOFA.

9. Pre-Award Activities. Award funds may not be used to reimburse pre-award expenses.

F. Other Submission Requirements

Application Submission and Receipt Procedures. This section provides the application submission and receipt instructions for HUD program applications. Please read the following instructions carefully and completely, as failure to comply with these procedures may disqualify your application.

1. Electronic Delivery. HUD requires applicants to submit their applications electronically through http://www.grants.gov. HUD will not accept or consider any applications that have been submitted through any other method, unless a waiver is granted. See Section IV of the General Section.

2. What to Expect on grants.gov. The following describes what to expect when you go to apply online using grants.gov/Apply:

a. Getting Started. Once on the site, you will find easy-to-follow, step-by-step instructions that will enable you to apply for HUD funds. The http://www.grants.gov feature includes a simple, unified application process to enable applicants to apply for grants online. There are six “Get Started” steps to complete at grants.gov. The information applicants need to understand and execute the steps is at http://www.grants.gov/GetStarted. Applicants should read the Get Started steps carefully. The site also contains registration checklists to help you walk through the process. HUD recommends that you download the checklists and prepare the information requested before beginning the registration process. Reviewing information required and assembling it before beginning the registration process will save you time and make the process faster and smoother.

b. DUNS Requirement. All applicants applying for funding, including renewal funding, must have a Dun and Bradstreet Universal Data Numbering System (DUNS) number. The DUNS number must be included in the data entry field labeled “Organizational Duns” on the form SF-424. Instructions for obtaining a DUNS number can be found at either of the following Web sites: http://www.hud.gov/offices/adm/grants/duns.cfm or http://www.grants.gov/GetStarted.

c. Faulty Registration Warning. HUD has found that the primary reason for application submission problems through grants.gov is faulty or incomplete registration by the applicant. The applicant must register as an entity/organization with the Federal Central Contractor Registry. The applicant must also register its Authorized Organization Representative (AOR), who is the electronic signatory.

d. Central Contractor Registry and Credential Provider Registration. In addition to having a DUNS number, applicants applying electronically through grants.gov must register with the Federal Central Contractor Registry and with a Credential Provider. The http://www.grants.gov Web site at http://www.grants.gov/GetStarted provides step-by-step instructions for registering in the Central Contractor Registry and registering with a credential provider. All applicants filing electronically must register with the Central Contractor Registry and receive credentials from the grants.gov credential provider in order to apply online. Failure to register with the Central Contractor Registry and credential provider will result in your application being rejected by the grants.gov portal.

The registration process is a separate process from submitting an application. Applicants are, therefore, encouraged to register early. The registration process can take approximately two weeks to be completed. Therefore, registration should be done in sufficient time to ensure it does not impact your ability to meet required submission deadlines. You will be able to submit your application online anytime after you receive your e-authentication credentials.

e. Authorized Organization Representative (AOR) Electronic Signature. Applications submitted through grants.gov constitute submission as electronically signed applications. The registration and e-authentication process establishes the AOR. When you submit the application through grants.gov, the name of your authorized organization representative on file will be inserted into the signature line of the application. Applicants must register the individual who is able to make legally binding commitments for the applicant organization as the AOR.

3. Instructions. Instructions on how to submit an electronic application to HUD via grants.gov:

a. Applying using grants.gov. Grants.gov has a full set of instructions on how to apply for funds on its Web site at http://www.grants.gov/CompleteApplication. The following provides simple guidance on what you will find on the http://www.grants.gov/Apply site. Applicants are encouraged to read through the page entitled, “Complete Application Package” before getting started. Grants.gov allows applicants to download the application package, instructions, and forms that are incorporated in the instructions, and work offline. In addition to forms that are part of the application instructions, there will be a series of electronic forms that are provided utilizing a PureEdge reader. The PureEdge Reader is available free for download from the grants.gov/Get Started site. The PureEdge Reader allows applicants to read the electronic files in a format identical to any other Standard or HUD form. The PureEdge forms have content-sensitive help. To use this feature you will need to click on the icon at the top of the page that features an arrow with a question mark. This engages the content-sensitive help for each field you will need to complete on the electronic form. The PureEdge forms can be downloaded and saved on your hard drive, network drive(s), or compact disks (CDs). Because of the size of the application, HUD recommends downloading the application to your computer hard drive. The instructions include this NOFA and any required forms that have not been converted into PureEdge forms. The instructions will also include a checklist to ensure that you are provided all the required information for submitting your application. Please review the checklist to ensure that your application contains all the required materials.

b. Mandatory Fields on PureEdge Forms. In the PureEdge forms you will note fields that will appear with a yellow background color on the data fields to be completed. These fields are mandatory fields and must be completed to successfully submit your application.

c. Completion of SF-424 Fields First. The PureEdge forms are designed to fill in common required fields such as the applicant name and address, DUNS number, etc., on all PureEdge electronic forms. To trigger this feature, an applicant must first complete the SF-424 information. Once it is completed the information will transfer to the other forms. This is an important feature to remember, particularly if you plan on submitting documents using the electronic facsimile feature discussed below. HUD will rely on the name, address, CFDA, and DUNS number fields on the electronic facsimile cover page populated from the completed SF-424, to route documents received by facsimile to the proper application. To ensure that your materials are properly routed, first complete the SF-424 cover page. After the SF-424 is complete, download the Facsimile Transmittal cover page to use the electronic facsimile feature described below if you need to use this feature. If you are relying on third parties to transmit matching fund letters or certifications, you can complete the SF-424, then download the Facsimile Transmittal cover page and provide a hard copy or electronic copy to the third party. Third parties can then directly submit the information to HUD using the pre-filled Facsimile Transmittal cover page, provided they use the correct fax number provided for the program.

d. Submission of Third Party Letters, Certifications, or Narrative Statements. In addition to forms, the NOFA may require the submission of other documentation such as third-party letters, certifications, or program narrative statements. This section discusses how you should submit this additional information electronically as part of your application:

(1) Narrative Statements to the Factors for Award. If you are required to submit narrative statements, you should submit them as an electronic file. Each response to a Factor for Award should be developed as a separate file labeled with the appropriate factor name, e.g., Factor 1 Capacity and submitted as part of your electronic application.

(2) Third-Party Letters, Certifications Requiring Signatures, and Other Documentation. The following two options, (a) and (b), apply to applicants who are required to submit documentation from organizations providing matching or leveraging funds; documentation of 501(c)(3) status or incorporation papers; documents that support the need for the program; Memoranda of Understanding (MOUs); or documentation to support your organization's claims regarding work that has been done to remove regulatory barriers to affordable housing:

(a) Scanning Documents to Create Electronic Files. Of the two third-party document submission options, scanning of documents into PDF format and including them as attachment files is HUD's preferred method for this NOFA. Electronic files must be labeled so the reader will know what the file contains. Match or leveraging letters can be scanned into a single folder or the applicant can create a separate file for each scanned letter and label them accordingly. All scanned files should be placed together in a zipped folder and then attached to the application package submitted to grants.gov as part of the application submission; or

(b) Electronic Facsimile Required Documentation. Applicants without available scanning equipment may submit the required documentation to HUD via facsimile (fax). The electronic facsimile method may only be used to submit attachments that are part of your electronic application. HUD will not accept entire applications via fax. Applications submitted entirely via fax will be disqualified.

To submit documents using the electronic facsimile method, applicants MUST USE form HUD-96011, Facsimile Transmittal, as the cover page for each faxed document. The HUD-96011 MUST NOT be covered by the applicant's own fax cover sheet. If the HUD-96011 is not the first page faxed, the document may not be able to be identified and may not be made part of the electronically submitted application. The form HUD-96011 is an electronic form and is part of the applicant's downloaded electronic application obtained from http://www.grants.gov/Apply. Applicants must fax their information to the following fax number: 800-HUD-1010. Each document must be faxed as a separate submission to avoid fax transmission problems. When faxing several documents, applicants must use the form HUD-96011 as the cover sheet for each document (e.g., Letter of Matching or Leveraging Funds, Memorandum of Understanding, Certification of Consistency with the Consolidated Plan, etc.). Your facsimile machine should provide you with a record of whether your transmission was received by HUD. If you get a negative response or a transmission error, you should resubmit the document until you confirm that HUD has received your transmission. HUD will not acknowledge that a fax was received successfully. HUD will electronically receive the fax, read it with an optical character reader, and attach it to the application submitted via grants.gov. Electronic facsimile transmissions may be sent at any time before the application submission date. HUD will store the information and attach it to the electronic application when HUD receives it from grants.gov.

e. Customer Support. The grants.gov Web site provides customer support via (800) 518-GRANTS (this is a toll-free number) or through e-mail at support@grants.gov. The customer support center is open from 7 a.m. to 9 p.m. eastern time, Monday through Friday, except federal holidays, to address grants.gov technology issues. For technical assistance on program-related questions, contact the number listed in Section VII.B. of this NOFA.

f. Internet Connections, Time-outs and Submission Errors.

(1) HUD highly suggests that the applicant use broadband Internet connections to submit the application, as opposed to dial-up service. Broadband connections may be ISDN, DSL, Cable, T1, etc. Submission problems are likely to decrease as the speed of the applicant's broadband connection increases. If the applicant organization does not have a broadband connection, the PureEdge program and the application may be copied to a CD, transferred to a computer that has such a connection, and submitted from that computer. Libraries and office support stores (Kinko's, etc.) are likely to have broadband connections.

(2) If the actual submission of your application, i.e., uploading to grants.gov, exceeds one hour, the applicant should request “second-level” help at the above grants.gov support line. On a dial-up connection, after an hour has gone by, it is likely that the applicant's Internet Service Provider (ISP) has timed out and cut the applicant's Internet connection.

(3) If the applicant's browser states that an MEC error has occurred, the applicant should request second-level help from grants.gov.

g. Grants.gov Tips and Tools. Tips on applying through grants.gov and Frequently Asked Questions concerning grants.gov may be found at HUD's HOPE VI Web site, http://www.hud.gov/offices/pih/programs/ph/hope6/, and HUD's Grants Administration Web sites, http://www.hud.gov/offices/adm/grants/egrants/grantsgovfaqs.pdf and http://www.hud.gov/offices/adm/grants/egrants/faqs52305.pdf. Applicants also may consult the FAQ link at the top of the Grants.gov Web page. Additionally, on the “Apply for Grants” section of the Grants.gov Web site (http://www.grants.gov/Apply), links to tips on application submission (“Application Submission Tips”) and error messages (“Application Error Tips”) are posted on the left-hand side of the webpage under the header “Tips and Tools.” Please note the additional helpful information posted here such as “Convert Documents to PDF” and “Download PureEdge Viewer.” Applicants should also review any alerts posted under the “Alerts” header, which is also found on the left-hand side of the page.

4. Waiver of Electronic Submission Requirement. During FY2005, HUD will require electronic applications to be submitted through www.grants.gov unless the applicant has received a waiver from the Department. HUD regulations at 24 CFR 5.110 permit waivers of regulatory requirements to be granted for cause. If you are unable to submit your application electronically, you may, in writing, request a waiver from this requirement. Your waiver request must state the basis for the request and explain why electronic submission is not possible. The basis for waivers for cause may include but are not limited to: (a) Lack of available Internet access in the geographic location in which the applicant is located or, (b) a physical disability of the applicant prevents the applicant from accessing or responding to the electronic application.

The waiver request should also include an e-mail and/or name and mailing address where responses can be directed. Applicants must submit waiver requests to the Assistant Secretary for Public and Indian Housing, who is responsible for the program under which you are seeking funding. To ensure time for processing, the waiver request must be submitted to HUD in writing at least 5 days prior to the application submission date.

To avoid a delay in the process, waiver requests should be sent by United States Postal Service Express Mail. You, the applicant, should retain a receipt for the mailing showing the date submitted to the Postal Service. Via e-mail, HUD will acknowledge receipt of the waiver request, if an e-mail address is provided, or will do so via United States Postal Service Express Mail or other means available. HUD will not make determinations or respond to waiver requests via the telephone. Each waiver request will be reviewed and a determination made to the applicant that indicates whether or not the waiver has been granted. In the event a waiver is granted, the due date for the mailed application delivery shall not be later than the due date for electronic applications. Applicants receiving a waiver will be expected to follow the submission instructions immediately below.

a. Submission Instructions for Applicants Receiving Waiver of Electronic Submission. Applicants receiving a waiver of the electronic submission requirements must submit their complete applications in paper copy as follows:

(1) Submission Using the United States Postal Service. Beginning in FY 2005, HUD will no longer accept hand deliveries of applications. Applicants who receive a waiver and are therefore allowed to submit paper applications must submit them via the United States Postal Service using Express Mail.

5. Timely Receipt Requirements and Proof of Timely Submission.

a. Electronic Submission. All applications must be fully received by http://www.grants.gov by 11:59:59 p.m. eastern time on the due date established for each program NOFA.

Proof of timely submission is automatically recorded by grants.gov. An electronic time stamp is generated within the system when the application is successfully received by grants.gov. The applicant will receive an acknowledgement of receipt and a tracking number from grants.gov with the successful transmission of the application. Applicants should print this receipt and save it, along with facsimile receipts for information provided by fax, as proof of timely submission. When HUD successfully retrieves the application from grants.gov, HUD will provide an electronic acknowledgment of receipt to the e-mail address provided on the SF-424. Proof of Timely Submission shall be the date and time that grants.gov receives your application submittal and the date HUD receives those portions of your application submitted by fax. All fax transmissions must be received by the application submission date and time.

Applications received by grants.gov, after the established due date for the program, will be considered late and will not be considered for funding by HUD. Similarly, applications will be considered late if information submitted by facsimile as part of the application is not received by HUD by the established due date. Please take into account the transmission time required for submitting your application via the Internet and the time required to submit any related documents via electronic facsimile. HUD suggests that applicants submit their applications during the operating hours of the grants.gov Support Desk, so that if there are questions concerning transmission, operators will be available to walk you through the process. Submitting your application during the Support Desk hours will also ensure that you have sufficient time for the application to complete its transmission prior to the application deadline.

Applicants using dial-up connections should be aware that transmission should take some time before grants.gov receives it. Grants.gov will provide either an error or a successfully received transmission message. The grants.gov Support Desk reports that some applicants abort the transmission because they think that nothing is occurring during the transmission process. Please be patient and give the system time to process the application. Uploading and transmitting many files, particularly electronic forms with associated XML schemas, will take some time to be processed.

b. Applications Receiving Waivers to Submit a Paper Copy Application.

Applicants granted a wavier to the electronic submission requirement must use the United States Postal Service (USPS) Express Mail to submit their applications to HUD. Applicants must take their application to a Post Office to get a receipt of mailing that provides the date and time the package was submitted to the USPS. The due date and time is the same for paper copies as for electronic copies. The USPS no longer allows large packages to be dropped in a mailbox. USPS rules now require that large packages be brought to the postal facility for mailing. The USPS, in many areas, has made a practice of returning large packages to the sender that have been dropped in a mail collection box. Packages submitted by due date and time and received by HUD no later than five days from the established due date will receive funding consideration. If the USPS does not have a digital time stamp to record the submission time, HUD will accept a receipt that has been obtained from the USPS with a postmark or dates receipt showing receipt by the Postal Service no later than the application submission date. Applicants will not receive funding consideration if their applications are determined to be late, and who cannot furnish HUD with a receipt from the USPS that verifies the package was submitted to the USPS prior to the deadline date and time.

c. Late applications. Late applications, whether received electronically or in hard copy, will not receive funding consideration. HUD will not be responsible for directing or forwarding applications to the appropriate location. Applicants should pay close attention to these submission and timely receipt instructions as they can make a difference in whether HUD will accept your application for funding consideration.

d. No Facsimiles of Entire Application. HUD will not accept fax transmissions from applicants who receive a waiver to submit a paper copy application. Paper applications must be complete and submitted in their entirety, via USPS Express Mail.

6. General Section References. The following sub-sections of Section IV of the General Section are hereby incorporated by reference:

a. Addresses to Request Application Package;

b. Application Kits;

c. Guidebook and Further Information

d. Forms. The following HUD standard forms are not required as part of the application for this NOFA:

(1) Grant Application Detailed Budget (HUD-424-CB);

(2) Grant Application Detailed Budget Worksheet (HUD-424-CBW);

e. Certifications and Assurances;

f. Submission Dates and Times;

V. Application Review Information

A. Selection Criteria (Rating Factors)

1. Rating Factor 1: Capacity (up to 30 points).

This factor addresses whether the Applicant Team has the capacity and organizational resources necessary to successfully implement the proposed activities within the grant period.

a. Past Experience (up to 15 points).

(1) The applicant will earn a maximum of 15 points if the applicant demonstrates that the applicant's team has extensive experience of affordable housing development and historic preservation requirements, and is on schedule in implementing the Main Street Master Plan. That is, the applicant's team has developed or rehabilitated more than 5 affordable housing projects and 3 Historic Register or traditional architecture projects over the past three years.

(2) The applicant will earn a maximum of 10 points if the applicant demonstrates that the applicant's team has adequate experience of affordable housing development and historic preservation requirements, and is on schedule in implementing the Main Street Master Plan. That is, the applicant's team has developed or rehabilitated more than 2 affordable housing projects and 1 Historic Register or traditional architecture projects over the past three years.

(3) The applicant will earn a maximum of 6 points if the applicant demonstrates that the applicant team has extensive experience, gained over the past three years, of affordable housing development and historic preservation requirements, but is behind schedule in implementing the Main Street Master Plan.

(4) The applicant will earn a maximum of 3 points if the applicant demonstrates that the applicant team has adequate experience, gained over the past three years, of housing development and historic preservation requirements, but is behind schedule in implementing the Main Street Master Plan.

(5) The applicant will earn a maximum of 0 points if the applicant cannot demonstrate that its team has at least adequate experience of housing development and historic preservation requirements, whether implementation of the Main Street Master Plan is on schedule or not.

b. Knowledge of Key Personnel (up to 10 points).

(1) The applicant will earn a maximum of 10 points if the applicant demonstrates that its key personnel have extensive knowledge, gained over the past three years, of affordable housing development and historic preservation requirements.

(2) The applicant will earn a maximum of 5 points if the applicant demonstrates that the applicant team's key personnel have adequate knowledge, gained over the past three years, of affordable housing development and historic preservation requirements.

(3) The applicant will earn a maximum of 0 points if the applicant cannot demonstrate that its key personnel have at least adequate knowledge, gained over the past three years, of housing development and historic preservation requirements.

c. Tracking and Reporting System for Production Milestones (up to 5 points).

(1) The applicant will earn a maximum of 5 points if the applicant demonstrates that a tracking and reporting system for key production milestones has existed and has been in use continuously for the Main Street Area rejuvenation effort, and the applicant demonstrates how the tracking and reporting system will be used to implement a grant awarded through this NOFA.

(2) The applicant will earn a maximum of 3 points if a tracking and reporting system exists as of the application submission date (i.e., was developed as a result of this NOFA), but has not been used on the Main Street Area rejuvenation effort, provided that the applicant demonstrates how it will be used to implement a grant awarded through this NOFA.

(3) The applicant will earn a maximum of 1 point if a tracking and reporting system does not exist, and has not existed in the past, as of the application submission date, but the applicant demonstrates how such a system will be used to implement a grant awarded through this NOFA.

(4) The applicant will receive 0 points if:

(a) A tracking and reporting system does not exist; or

(b) The applicant does not demonstrate how one will be used to implement a grant awarded through this NOFA.

2. Rating Factor 2: Need for Affordable Housing (up to 10 points).

a. For the applicant's PMSA/MSA or nonmetropolitan county/parish, if the ratio of the maximum affordable rent for a 4-person family to the FMR of a 3-bedroom size unit (affordable rent divided by FMR) is equal to or less than 0.4, the applicant will receive 10 points.

b. For the applicant's PMSA/MSA or nonmetropolitan county/parish, if the ratio of the maximum affordable rent for a 4-person family to the FMR of a 3-bedroom unit (affordable rent divided by FMR) is greater than 0.4, and is equal to or less than 0.6, the applicant will receive 7 points.

c. For the applicant's PMSA/MSA or nonmetropolitan county/parish, if the ratio of the maximum affordable rent for a 4-person family to the FMR of a 3-bedroom size unit (affordable rent divided by FMR) is greater than 0.6, but is equal to or less than 0.8, the applicant will receive 4 points.

d. For the applicant's PMSA/MSA or nonmetropolitan county/parish, if the ratio of the maximum affordable rent for a 4-person family to the FMR of a 3-bedroom size unit (affordable rent divided by FMR) is greater than 0.8, the applicant will receive 0 points.

3. Rating Factor 3: Appropriateness of the Main Street Master Plan (up to 20 points).

a. Master Plan Requirements (up to 6 points).

(1) The applicant will receive 6 points if the application demonstrates that the Master Plan includes all 6 elements required, as listed below. One point will be deducted from the maximum of 6 points for each element that is not included in the Master Plan. The applicant should evidence this by making specific references to pages in the Master Plan. The Master Plan must at a minimum:

(a) Have been prepared by an architect, land planner, or qualified planning professional for the applicant or its recognized developer entity.

(b) Describe the proposed Main Street Rejuvenation redevelopment strategies;

(c) Include a map indicating the Main Street Area;

(d) Include a narrative that refers to the map and describes the various planned redevelopment actions;

(e) Include the development of affordable housing; and

(f) Include a list of properties where affordable housing will be rehabilitated or developed. The list of properties must have been included in the Main Street Master Plan on or before the application submission date. The properties must be described by lot/block number, street address, legal description, or other exact description.

b. Master Plan Qualities (up to 14 points).

(1) Commitment to Historic or Traditional Architecture.

(a) The applicant will receive 5 points if the applicant's Master Plan demonstrates a strong commitment to the preservation of historic or traditional architecture.

(b) The applicant will receive 3 points if the applicant's Master Plan addresses the preservation of historic or traditional architecture but does not convey a strong commitment to it.

(c) The applicant will receive 0 points if the applicant Master Plan does not address the preservation of historic or traditional architecture.

(2) Design Guidelines.

(a) The applicant will receive 2 points if the applicant's Master Plan contains specific design guidelines that relate to historic or traditional architecture, and that promote universal design, as described in Section III.C.2. of this NOFA.

(b) The applicant will receive 1 point if the Master Plan contains general design guidelines.

(c) The applicant will receive 0 points if the Master Plan does not contain design guidelines.

(3) Mission Statement.

(a) The applicant will receive up to 1 point if the applicant's Master Plan contains a well-defined mission statement that addresses the needs of the Main Street Area and includes, and is relevant to, local community conditions. The applicant should evidence this by making specific references to pages in the Master Plan.

(b) The applicant will receive 0 points if the applicant's Master Plan does not include a well-defined mission statement.

(4) Public and Private Support.

(a) The applicant will receive 3 points if the applicant's Master Plan has received strong local public and private sector support demonstrated by long-term (at least two years of) financial and in-kind service leverage commitments to the Main Street Area equal to or greater than 200 percent of the applicant's requested grant amount.

(b) The applicant will receive 2 points if the applicant's Master Plan has received strong local public and private sector support demonstrated by long-term (at least two years of) financial and in-kind service leverage commitments to the Main Street Area equal to or greater than 150 percent, but less than 200 percent of the applicant's requested grant amount.

(c) The applicant will receive 1 point if the applicant's Master Plan has received strong local public and private sector support demonstrated by long-term (at least two years of) financial and in-kind service leverage commitments to the Main Street Area equal to or greater than 100 percent, but less than 150 percent of the applicant's requested grant amount.

(5) Promotion and Marketing.

(a) The applicant will receive 3 points if the applicant's Master Plan sets forth a plan to promote and market the Main Street Area rejuvenation effort to parties that may be involved in the rejuvenation effort and to possible future residents of the Main Street Affordable Housing Project, including (in accordance with affirmative fair housing marketing requirements) the population that is least likely to apply.

(b) The applicant will receive 2 points if the applicant's Master Plan includes a discussion of both promotion and marketing of the Main Street Area rejuvenation effort to parties that may be involved in the rejuvenation effort and to possible future residents of the Main Street Affordable Housing Project, including (in accordance with affirmative fair housing marketing requirements) the population that is least likely to apply.

(c) The applicant will receive 1 point if the applicant's Master Plan includes a discussion of either promotion or marketing of the Main Street Area rejuvenation effort to parties that may be involved in the rejuvenation effort and to possible future residents of the Main Street Affordable Housing Project, including (in accordance with affirmative fair housing marketing requirements) the population that is least likely to apply.

(d) The applicant will receive 0 points if the applicant's Master Plan does not includes a discussion of promotion or marketing of the Main Street Area rejuvenation effort.

4. Rating Factor 4: Appropriateness of the Main Street Affordable Housing Project (up to 20 points).

a. Main Street Affordable Housing Project Leverage (up to 10 points).

(1) In this NOFA, there are three categories of cash and in-kind contributions (“leverage”), Main Street Area Leverage, Main Street Housing Project Leverage, and match:

(a) Main Street Area Leverage includes all types of leverage as described in Section III.C. of this NOFA, entitled, “Main Street Area Leverage,” and is used for activities related to the Main Street Area rejuvenation effort. Note that long-term Main Street Area Leverage is rated above in Section V.A.3.b.4. of this NOFA, entitled “Public and Private Support.”

(b) Main Street Affordable Housing Project Leverage includes all types of leverage as described in Section III.C. of this NOFA, but is specifically used only for development of the Main Street Affordable Housing Project.

(c) Match is a separate, statutorily required sub-group of Main Street Affordable Housing Project Leverage. Match requirements are described in Section III.B. of this NOFA.

(2) This rating factor measures Main Street Affordable Housing Project Leverage only. The amount of Main Street Affordable Housing Project Leverage includes the match amount. Points will be assigned based on the following scale:

Leverage as percent of grant amount | Points awarded (points)
Less than 20 percent | 0
Greater than or equal to 20 percent but less than 40 percent | 2
Greater than or equal to 40 percent but less than 60 percent | 4
Greater than or equal to 60 percent but less than 80 percent | 6
Greater than or equal to 80 percent but less than 100 percent | 8
100 percent or more | 10

b. Retention of historic or traditional architecture (up to 5 points).

(1) The applicant will receive 5 points if the application demonstrates that the buildings in the project will maintain all of the historic or traditional architecture and design features on all floors of the buildings.

(2) The applicant will receive 2 points if the application demonstrates that the buildings in the project will retain some of the historic or traditional architecture and design features on some or all of the floors of the buildings.

(3) The applicant will receive 0 points if the application does not demonstrate that the buildings in the project will retain historic or traditional architecture and design features.

c. Reservation for Very Low-Income Families (up to 4 points).

(1) The applicant will receive 5 points if the number of units reserved for very low-income initial residents is greater than 20 percent of the total affordable housing units in the project.

(2) The applicant will receive 3 points if the number of units reserved for very low-income initial residents is greater than 10 percent, but less than or equal to 20 percent of the total affordable housing units in the project.

(3) The applicant will receive 0 points if the number of units reserved for very low-income initial residents is 10 percent or less of the total affordable housing units in the project.

d. Energy Star (up to 1 point).

(1) Promotion of Energy Star compliance is a HOPE VI Main Street program requirement. See Section III.C.4.g. of this NOFA.

(2) You will receive 1 point if your application demonstrates that you will:

(a) Use Energy Star-labeled products;

(b) Promote Energy Star design of affordable units; and

(c) If you elect to include Community and Supportive Services in your grant activities, include Energy Star in homeownership counseling.

(2) You will receive 0 points if your application does not demonstrate that you will perform (a) and (b) above, and, if applicable, (c) above.

5. Rating Factor 5: Program Administration and Fiscal Management (up to 18 points).

a. Program Schedule (up to 5 points).

(1) The applicant may receive a maximum of 5 points if the program schedule reflects that each of the milestone activities will take place within the stipulated time frames required under Section VI.B.1. of this NOFA and the applicant demonstrates that the planned time frames are realistic and achievable, i.e., there are no known impediments to unit development, e.g., litigation, and the applicant's team has prepared a chart that states estimated production milestones, their relative time frames, and each milestone's time to completion, e.g., Gantt Chart. One point will be deducted from the 5 points for each milestone activity listed in Section VI.B.1. and IV.B.4.c. that is:

(a) Omitted from the program schedule;

(b) Not indicated to occur within the time frame required in this NOFA, or

(c) Is not demonstrated to be realistic and achievable.

b. Fiscal Management (up to 13 points).

(1) If the applicant shows fiscal management controls, a procurement system, and a results-oriented management structure that are adequate to manage a grant from this NOFA, and the applicant demonstrates that their management structure and controls are results-oriented, the applicant will receive 13 points;

(2) If the applicant shows fiscal management controls, a procurement system, and management structure and controls that are adequate to manage a grant from this NOFA, but the applicant does not demonstrate that the applicant's management structure and controls are results-oriented, the applicant will receive 8 points;

(3) If the applicant shows fiscal management controls, but the applicant does not demonstrate that the applicant has a procurement system and it does not demonstrate that its management structure and controls are results-oriented, the applicant will receive 4 points;

(4) If the applicant does not describe its program management structure and fiscal management controls and does not show that they are adequate, the applicant will receive 0 points.

6. Rating Factor 6: Incentive Criteria on Regulatory Barrier Removal—(up to 2 points).

a. Description.

(1) HUD's Notice, “America's Affordable Communities Initiative, HUD's Initiative on Removal of Regulatory Barriers: Announcement of Incentive Criteria on Barrier Removal in HUD's FY 2004 Competitive Funding Allocations,” Federal Register Docket Number FR-4882-N-03, published on March 22, 2004, provides that most HUD competitive NOFAs will include an incentive for local and state governments to decrease their regulatory barriers to the development of affordable housing.

(2) Form HUD-27300 contains questions that explore the applicant's efforts to decrease regulatory barriers.

b. Scoring.

(1) If the applicant is considered a local unit of government with land use and building regulatory authority, an agency or department of a local unit of government, a nonprofit organization, or other qualified applicant applying for funding for a project located in the jurisdiction of the local unit of government, the applicant is invited to answer the 20 questions in Part A of form HUD-27300. For those applications in which regulatory authority is split between jurisdictions (e.g., county/parish and town), the applicant should answer the question for that jurisdiction that has regulatory authority over the issue at question.

(a) If the applicant checked Column 2 for five to ten questions from Part A, the applicant will receive 1 point in the NOFA evaluation.

(b) If the applicant checked Column 2 for 11 or more questions from Part A , the applicant will receive 2 points in the NOFA evaluation.

(2) Part B of the form is for an applicant that is considered to be a state government or an agency or department of a state government. State governments are not eligible to apply for this NOFA and, as such, Part B of the form is not applicable.

(3) In no case will an applicant receive greater than two points for barrier removal activities. An applicant must submit the documentation requested in the questionnaire or provide a Web site address (URL) where the documentation can be readily found, to receive the bonus points for this policy priority.

7. Rating Factor 7: RC/EZ/EC-IIs—(up to 2 points).

a. RC/EZ/EC-IIs. This NOFA provides for the award of two bonus points for eligible activities/projects that the applicant proposes to locate in federally designated Empowerment Zones (EZs), Renewal Communities (RCs), or Enterprise Communities, designated by the United States Department of Agriculture in round II (EC-IIs), that are intended to serve the residents of these areas, and that are certified to be consistent with the area's strategic plan or RC Tax Incentive Utilization Plan (TIUP). (For ease of reference in this notice, all of the federally designated areas are collectively referred to as “RC/EZ/EC-IIs” and residents of any of these federally designated areas as “RC/EZ/EC-II residents.”) This NOFA contains a certification, “Certification of Consistency with RC/EZ/EC Strategic Plan” (form HUD-2990), that must be completed for the applicant to be considered for RC/EZ/EC-II bonus points. A list of RC/EZ/EC--IIs can be obtained from HUD's Web page at http://www.hud.gov/cr. Applicants can determine if their program/project activities are located in one of these designated areas by using the locator on HUD's Web site at http://www.hud.gov/crlocator.

B. Review and Selection Process

1. HUD's selection process is designed to ensure that grants are awarded to eligible local governments with the most meritorious applications.

2. Application Screening.

a. HUD will screen each application to determine if:

(1) It meets the threshold criteria listed in Section III.C of this NOFA; and

(2) It is deficient, i.e., contains any technical deficiencies.

b. Corrections to Deficient Applications. The subsection entitled, “Corrections to Deficient Applications,” in Section V.B of the General Section applies, except that clarifications or corrections of technical deficiencies in accordance with the information provided by HUD must be submitted within 5 calendar days of the date of receipt of the HUD notification, not 14 days.

c. Applications that will not be rated or ranked.

(1) HUD will not rate or rank applications that are deficient at the end of a 5 calendar day cure period, as described in Section V.B.2.b. of this NOFA.

(2) HUD will not rate or rank applications that have not met the thresholds described in Section III.C. of this NOFA. Such applications will not be eligible for funding.

3. Preliminary Rating and Ranking.

a. Rating.

(1) HUD staff will preliminarily rate each eligible application, SOLELY on the basis of the rating factors described in Section V.A of this NOFA.

(2) When rating applications, HUD reviewers will not use any information included in any application submitted for another NOFA.

(3) HUD will assign a preliminary score for each rating factor and a preliminary total score for each eligible application.

(4) The maximum number of points for each application is 102.

(5) Minimum Score. Applications that do not have a preliminary score of at least 50 will not be eligible for funding. b. Ranking.

(1) After preliminary review, applications with a minimum score of 50 or above will be ranked in score order.

4. Final Panel Review.

a. A Final Review Panel made up of HUD staff will:

(1) Review the Preliminary Rating and Ranking documentation to:

(a) Ensure that any inconsistencies between preliminary reviewers have been identified and rectified; and

(b) Ensure that the Preliminary Rating and Ranking documentation accurately reflects the contents of the application.

(2) Assign a final score to each application; and

(3) Recommend for selection the most highly rated applications, subject to the amount of available funding, in accordance with the allocation of funds described in Section II of this NOFA.

5. HUD reserves the right to make reductions in funding for any ineligible items included in an applicant's proposed budget.

6. In accordance with the FY 2004 HOPE VI appropriation, HUD may not use HOPE VI funds to grant competitive advantage in awards to settle litigation or pay judgments.

7. Tie Scores. If two or more applications have the same score and there are insufficient funds to select all of them, HUD will select for funding the application(s) with the highest score for the Master Plan Qualities Rating Factor. If a tie remains, HUD will select for funding the application(s) with the highest score for the Capacity Rating Factor. HUD will select further tied applications with the highest score for the Need Rating Factor.

8. Remaining Funds.

a. HUD reserves the right to reallocate remaining funds from this NOFA to other eligible activities under Section 24 of the Act.

(1) If the total amount of funds requested by all applications found eligible for funding under Section V.B. of this NOFA is less than the amount of funds available from this NOFA, all eligible applications will be funded and those funds in excess of the total requested amount will be considered remaining funds.

(2) If the total amount of funds requested by all applications found eligible for funding under Section V.B. of this NOFA is greater than the amount of funds available from this NOFA, eligible applications will be funded until the amount of non-awarded funds is less than the amount required to feasibly fund the next eligible application. In this case, the funds that have not been awarded will be considered remaining funds.

9. The following sub-sections of Section V. of the General Section are hereby incorporated by reference:

a. HUD's Strategic Goals;

b. Policy Priorities;

c. Threshold Compliance;

d. Corrections to Deficient Applications;

e. Rating; and

f. Ranking.

VI. Award Administration Information

A. Award Notices

1. Initial Announcement. The HUD Reform Act prohibits HUD from notifying the applicant as to whether or not the applicant has been selected to receive a grant until HUD has announced all grant recipients. If the application has been found to be ineligible or if it did not receive enough points to be funded, the applicant will not be notified until the successful applicants have been notified. HUD will provide written notification to all applicants, whether or not they have been selected for funding.

2. Authorizing Document. The notice of award signed by the Assistant Secretary for Public and Indian Housing (grants officer) is the authorizing document. This notice will be delivered via the United States Postal Service.

3. Applicant Debriefing. For a period of at least 120 days, beginning 30 days after the awards for assistance are publicly announced, HUD will provide a debriefing to an application that requests one. All debriefing requests must be made in writing by the authorized official whose signature appears on the SF-424 or his/her successor in office, and submitted to the person or organization identified for “Technical Assistance” in Section VII.B. of this NOFA. Information provided during a debriefing will include, at a minimum, the final score you received for each rating factor.

4. General Section References. The following sub-sections of Section VI.A. of the General Section are hereby incorporated by reference:

a. Adjustments to Funding.

B. Administrative and National Policy Requirements

1. Administrative Requirements:

a. Grant Agreement Execution. The grantee must execute the Grant Agreement within 90 days after HUD mails the Grant Agreement to the grantee.

b. Grant term. The time period for completion shall not exceed 30 months from the date the NOFA award is executed.

c. Sub-Grants and Contracts. Grant funds may be expended directly by the applicant or they may be granted or loaned by the applicant to a third party who is undertaking the development of the project. Loans may be amortized or forgiven.

d. Reasonable Time Frame. Grantees must proceed within a reasonable time frame to complete several milestone activities, as indicated below. In determining reasonableness of such time frame, HUD will take into consideration those delays caused by factors beyond the applicant's control. These time frames must be stated in a program schedule, in accordance with the threshold requirement documentation at Section IV.B.4.c. of this NOFA.

e. Development Proposal. Grantees must submit a development proposal for the project within 6 months after the grant award date or, if State Historic Preservation Officer approval is necessary, 9 months after the grant award date.

(1) Development proposals must include the following information:

(a) Identification of parties to the project development;

(b) Activities and relationships of parties, e.g., Party A will loan $50,000 to Party C via a hard loan with an interest rate of 6 percent, with a 30-year amortization and a 15-year term.

(c) Financing, i.e., Sources and Uses in the form HUD-52861 format;

(d) Unit description, i.e., unit number and sizes.

(e) Site locations, i.e., lot and block, street address, or legal description;

(f) Development construction cost estimate; and

(g) Certification that open competition will be used by the grantee to select a development partner and/or owner entity, if applicable.

f. Preliminary Environmental Approval Only. HUD's notification of award to a selected applicant constitutes a preliminary approval by HUD subject to the completion of an environmental review of the proposed sites in accordance with 24 CFR part 50. See Section III.C.2.k. of this NOFA for information about environmental requirements.

g. First Construction Start. Grantees must start housing unit construction within 12 months after the grant award date or, if SHPO approval is necessary, 15 months after grant award date.

h. Last Construction Completion. Grantees must complete construction within 30 months from the grant award date.

i. Flood Insurance. In accordance with the Flood Disaster Protection Act of 1973 (42 U.S.C. 4001-4128), the application may not propose to provide financial assistance for acquisition or construction (including rehabilitation) of properties located in an area identified by the Federal Emergency Management Agency (FEMA) as having special flood hazards, unless:

(1) The community in which the area is situated is participating in the National Flood Insurance program (see 44 CFR parts 59 through 79), or less than one year has passed since FEMA notification regarding such hazards; and

(2) Where the community is participating in the National Flood Insurance Program, flood insurance is obtained as a condition of execution of a Grant Agreement.

j. Coastal Barrier Resources Act. In accordance with the Coastal Barrier Resources Act (16 U.S.C. 3501), the application may not target properties in the Coastal Barrier Resources System.

2. National Policy Requirements.

a. See references to the General Section in Section III of this NOFA.

3. Reporting.

a. Quarterly Administrative and Compliance Checkpoints Report (Quarterly Report).

(1) If the applicant is selected for funding, the applicant must submit a Main Street Quarterly Report to HUD. The report will be filled out on-line and will consist of administrative and production milestones, called “Locked Checkpoints,” and a short status narrative.

(2) HUD will provide training and technical assistance on the filing and submitting of Main Street Quarterly Reports.

(3) Filing of Quarterly Reports is mandatory for all grantees, and failure to do so within the required quarterly time frame will result in suspension of grant funds until the report is filed and approved by HUD.

(4) Grantees will be held to the milestones that are reported on the Quarterly Report, as approved by HUD.

4. LOCCS. Grantees must report all obligations and expenditures in HUD's Line of Credit Control System (LOCCS), or its successor system, on a quarterly basis.

5. Logic Model Reporting.

a. The reporting shall include submission of a completed logic model indicating results achieved against the proposed output goal(s) for output and proposed outcome(s) which the applicant stated in the applicant's approved application and agreed upon with HUD. The submission of the logic model and required information should be in accordance with the Program Schedule time frames as identified in the application and Grant Agreement.

6. Information for Research and Evaluation Studies. As a condition of the receipt of financial assistance under a HUD Program NOFA, all successful applicants will be required to cooperate with all HUD staff or contractors performing HUD-funded research and evaluation studies.

7. Final Audit. Grantees are required to obtain a complete final closeout audit of the grantee financial statements for the grant funds. The audit must be completed by a certified public accountant (CPA) in accordance with generally accepted government audit standards, and a written report of the audit must be forwarded to HUD within 60 days of issuance. Grant recipients must comply with the requirements of 24 CFR part 84 or 24 CFR part 85 as stated in OMB Circulars A-110, A-87, and A-122, as applicable.

8. Final Report.

a. The grantees shall submit a final report, which will include a financial report and a narrative evaluating overall performance against its HOPE VI Main Street application and Main Street Quarterly Progress Report. Grantees shall use quantifiable data to measure performance against goals and objectives outlined in its application. The financial report shall contain a summary of all expenditures made from the beginning of the grant agreement to the end of the grant agreement and shall include any unexpended balances.

b. Racial and Ethnic Data. HUD requires that funded recipients collect racial and ethnic beneficiary data. It has adopted the Office of Management and Budget's Standards for the Collection of Racial and Ethnic Data. In view of these requirements, you should use form HUD-27061, Racial and Ethnic Data Reporting Form (instructions for its use), found on www.HUDclips.org; a comparable program form; or a comparable electronic data system.

c. The final narrative and financial report shall be due to HUD 90 days after either the full expenditure of funds, or when the grant term expires, whichever comes first.

VII. Agency Contacts

A. Technical Corrections to the NOFA

1. Technical corrections to this NOFA will be posted to the grants.gov Web site.

2. Any technical corrections will also be published in the Federal Register.

3. The applicant is responsible for monitoring these sites during the application preparation period.

B. Technical Assistance. Before the application submission date, HUD staff will be available to provide the applicant with general guidance and technical assistance on this NOFA. However, HUD staff is not permitted to assist in preparing the application. If the applicant has a question or needs clarification, the applicant may call Lar Gnessin at (202) 708-0614, ext. 2676, send an e-mail to lawrence_gnessin@hud.gov, or the applicant may contact Mr. Milan Ozdinec, Deputy Assistant Secretary for Public Housing Investments, Department of Housing and Urban Development, 451 Seventh Street, SW., Room 4130, Washington, DC 20410-5000; telephone (202) 401-8812; fax (202) 401-2370 (these are not toll-free numbers). Persons with hearing and/or speech impairments may access these telephone numbers via text telephone (TTY) by calling the toll-free Federal Information Relay Service at (800) 877-8339. For technical support for downloading an application or submitting an application, please call grants.gov Customer Support at 800-518-GRANTS (This is a toll-free number).

C. General Information. General information about HUD's HOPE VI programs can be found on the Internet at http://www.hud.gov/offices/pih/programs/ph/hope6/.

VIII. Other Information

A. General Section References. The following sub-sections of Section VIII. of the General Section are hereby incorporated by reference:

1. Executive Order 13132, Federalism;

2. Public Access, Documentation and Disclosure;

3. Section 103 of the HUD Reform Act; and

4. The FY 2005 HUD NOFA Process and Future HUD Funding Processes.

B. Environmental Impact. A “Finding of No Significant Impact” (FONSI) with respect to the environment has been made for this notice in accordance with HUD regulations at 24 CFR part 50 that implement Section 102(2)(C) of the National Environmental Policy Act of 1969 (42 U.S.C. 4332). The FONSI is available for public inspection between 8 a.m. and 5 p.m. in the Office of the General Counsel, Regulations Division, U.S. Department of Housing and Urban Development, 451 Seventh Street, SW., Room 10276, Washington, DC 20410-0500.

C. Paperwork Reduction Act Statement. The information collection requirements contained in this document have been approved by the Office of Management and Budget (OMB), under the Paperwork Reduction Act of 1995 (44 U.S.C. 3501-3520) and assigned OMB Control Number 2577-0208. In accordance with the Paperwork Reduction Act, HUD may not conduct or sponsor, and a person is not required to respond to, a collection of information unless the collection displays a currently valid OMB control number. Public reporting burden for the collection of information is estimated to average 68 hours per annum per respondent for the application and grant administration. This includes the time for collecting, reviewing, and reporting the data for the application, quarterly reports, and final report. The information will be used for grantee selection and monitoring the administration of funds. Response to this request for information is required in order to receive the benefits to be derived.

D. Sense of Congress. It is the sense of Congress, as published in Section 410 of the Consolidated Appropriations Act of 2004, that, to the greatest extent practicable, all equipment and products purchased with funds made available in this NOFA should be American-made.

Dated: July 15, 2005.
Paula O. Blunt,
General Deputy Assistant Secretary for Public and Indian Housing.

BILLING CODE 4210-33-P

[FR Doc. 05-14299 Filed 7-15-05; 4:17 pm]

BILLING CODE 4210-33-C